DEPARTMENT OF COMMERCE

National Oceanic and Atmospheric Administration

50 CFR Part 679

[Docket No. 180713633-9174-02]

RIN 0648-XG356

Fisheries of the Exclusive Economic Zone Off Alaska; Bering Sea and Aleutian Islands; Final 2019 and 2020 Harvest Specifications for Groundfish

AGENCY: National Marine Fisheries Service (NMFS), National Oceanic and Atmospheric Administration (NOAA), Commerce.

ACTION: Final rule; harvest specifications and closures.

SUMMARY: NMFS announces final 2019 and 2020 harvest specifications, apportionments, and prohibited species catch allowances for the groundfish fishery of the Bering Sea and Aleutian Islands management area (BSAI). This action is necessary to establish harvest limits for groundfish during the remainder of the 2019 and the start of the 2020 fishing years, and to accomplish the goals and objectives of the Fishery Management Plan for Groundfish of the Bering Sea and Aleutian Islands Management Area (FMP). The 2019 harvest specifications supersede those previously set in the final 2018 and 2019 harvest specifications, and the 2020 harvest specifications will be superseded in early 2020 when the final 2020 and 2021 harvest specifications are published. The intended effect of this action is to conserve and manage the groundfish resources in the BSAI in accordance with the Magnuson-Stevens Fishery Conservation and Management Act (Magnuson-Stevens Act).

DATES: Harvest specifications and closures are effective from 1200 hours, Alaska local time (A.l.t.), March 13, 2019, through 2400 hours, A.l.t., December 31, 2020.

ADDRESSES: Electronic copies of the Alaska Groundfish Harvest Specifications Final Environmental Impact Statement (EIS), Record of Decision (ROD), annual Supplementary Information Reports (SIRs) to the EIS, and the Initial Regulatory Flexibility Analysis (IRFA) prepared for this action are available from https://alaskafisheries.noaa.gov. The 2018 Stock Assessment and Fishery Evaluation (SAFE) report for the groundfish resources of the BSAI, dated November 2018, as well as the SAFE reports for previous years, are available from the North Pacific Fishery Management Council (Council) at 605 West 4th Avenue, Suite 306, Anchorage, AK, 99510-2252, phone 907-271-2809, or from the Council's website at https://www.npfmc.org/.

FOR FURTHER INFORMATION CONTACT: Steve Whitney, 907-586-7228.

SUPPLEMENTARY INFORMATION: Federal regulations at 50 CFR part 679 implement the FMP and govern the groundfish fisheries in the BSAI. The Council prepared the FMP, and NMFS approved it, under the Magnuson-Stevens Act. General regulations governing U.S. fisheries also appear at 50 CFR part 600.

The FMP and its implementing regulations require NMFS, after consultation with the Council, to specify annually the total allowable catch (TAC) for each target species category. The sum of all TAC for all groundfish species in the BSAI must be within the optimum yield (OY) range of 1.4 million to 2.0 million metric tons (mt) (see § 679.20(a)(1)(i)(A)). This final rule specifies the total TAC at 2.0 million mt for both 2019 and 2020. NMFS also must specify apportionments of TAC, prohibited species catch (PSC) allowances, and prohibited species quota (PSQ) reserves established by § 679.21; seasonal allowances of pollock, Pacific cod, and Atka mackerel TAC; American Fisheries Act allocations; Amendment 80 allocations; Community Development Quota (CDQ) reserve amounts established by § 679.20(b)(1)(ii); and acceptable biological catch (ABC) surpluses and reserves for CDQ groups and the Amendment 80 cooperative for flathead sole, rock sole, and yellowfin sole. The final harvest specifications set forth in Tables 1 through 25 of this action satisfy these requirements.

Section 679.20(c)(3)(i) further requires that NMFS consider public comment on the proposed harvest specifications and, after consultation with the Council, publish final harvest specifications in the Federal Register. The proposed 2019 and 2020 harvest specifications for the groundfish fishery of the BSAI were published in the Federal Register on December 6, 2018 (83 FR 62815). Comments were invited and accepted through January 7, 2019. NMFS received no comments on the proposed harvest specifications. NMFS consulted with the Council on the final 2019 and 2020 harvest specifications during the December 2018 Council meeting in Anchorage, AK. After considering public comments, as well as biological and socioeconomic data that were available at the Council's December meeting, in this final rule NMFS implements the final 2019 and 2020 harvest specifications as recommended by the Council.

ABC and TAC Harvest Specifications

The final ABC amounts for Alaska groundfish are based on the best available biological and socioeconomic information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier 1 represents the highest level of information quality available, while Tier 6 represents the lowest.

In December 2018, the Council, its Scientific and Statistical Committee (SSC), and its Advisory Panel (AP) reviewed current biological and harvest information about the condition of the BSAI groundfish stocks. The Council's BSAI Groundfish Plan Team (Plan Team) compiled and presented this information in the 2018 SAFE report for the BSAI groundfish fisheries, dated November 2018 (see ADDRESSES). The SAFE report contains a review of the latest scientific analyses and estimates of each species' biomass and other biological parameters, as well as summaries of the available information on the BSAI ecosystem and the economic condition of groundfish fisheries off Alaska. NMFS notified the public of the comment period for these harvest specifications—and of the publication of the 2018 SAFE report—in the notice of proposed harvest specifications. From the data and analyses in the SAFE report, the Plan Team recommended an OFL and ABC for each species or species group at the November 2018 Plan Team meeting.

In December 2018, the SSC, AP, and Council reviewed the Plan Team's recommendations. The final TAC recommendations were based on the ABCs as adjusted for other biological and socioeconomic considerations, including maintaining the sum of all the TACs within the required OY range of 1.4 million to 2.0 million mt. As required by annual catch limit rules for all fisheries (74 FR 3178, January 16, 2009), none of the Council's recommended 2019 or 2020 TACs exceed the final 2019 or 2020 ABCs for any species or species group. NMFS finds that the Council's recommended OFLs, ABCs, and TACs are consistent with the preferred harvest strategy and the biological condition of groundfish stocks as described in the 2018 SAFE report that was approved by the Council. Therefore, this final rule provides notice that the Secretary of Commerce approves the final 2019 and 2020 harvest specifications as recommended by the Council.

The 2019 harvest specifications set in this final action will supersede the 2019 harvest specifications previously set in the final 2018 and 2019 harvest specifications (83 FR 8365, February 27, 2018). The 2020 harvest specifications herein will be superseded in early 2020 when the final 2020 and 2021 harvest specifications are published. Pursuant to this final action, the 2019 harvest specifications therefore will apply for the remainder of the current year (2019), while the 2020 harvest specifications are projected only for the following year (2020) and will be superseded in early 2020 by the final 2020 and 2021 harvest specifications. Because this final action (published in early 2019) will be superseded in early 2020 by the publication of the final 2020 and 2021 harvest specifications, it is projected that this final action will implement the harvest specifications for the BSAI for approximately one year.

Other Actions Affecting the 2019 and 2020 Harvest Specifications

Amendment 117: Reclassify Squid as an Ecosystem Species

As described in the proposed harvest specifications, NMFS published the final rule to implement Amendment 117 to the FMP (83 FR 31460, July 6, 2018). This rule reclassified squid in the FMP as an “Ecosystem Component” species, which is a category of non-target species that are not in need of conservation and management. NMFS will no longer set an OFL, ABC, and TAC for squid. Therefore, the final 2019 and 2020 harvest specifications for the BSAI do not include an OFL, ABC, and TAC for squid. Amendment 117 prohibits directed fishing for squid, while maintaining recordkeeping and reporting requirements for squid. Amendment 117 also establishes a squid maximum retainable amount when directed fishing for groundfish species at 20 percent to discourage targeting squid species.

Rulemaking To Prohibit Directed Fishing for American Fisheries Act (AFA) Sideboard Limits

On February 8, 2019, NMFS published a final rule (84 FR 2723, February 8, 2019) that modifies regulations for the American Fisheries Act (AFA) Program participants subject to limits on the catch of specific species (sideboard limits) in the BSAI. Sideboard limits are intended to prevent AFA Program participants who benefit from receiving exclusive harvesting privileges in a particular fishery from shifting effort to other fisheries.

Specifically, the final rule primarily establishes regulations to prohibit directed fishing for sideboard limits for specific groundfish species or species groups, rather than prohibiting directed fishing for AFA sideboard limits through the BSAI annual harvest specifications. Currently, NMFS calculates numerous AFA Program sideboard limits as part of the annual BSAI groundfish harvest specifications process and publishes these sideboard limits in the Federal Register. Concurrently, NMFS prohibits directed fishing for the majority of the groundfish sideboard limits because most limits are too small to support directed fishing. Rather than continue this annual process, the final rule revises regulations to prohibit directed fishing in regulation for most AFA Program groundfish sideboard limits. Once the final rule is effective (effective March 11, 2019), NMFS will no longer publish in the annual BSAI harvest specifications the AFA Program sideboard limit amounts for groundfish species subject to the final rule (contained in Tables 20 and 22 of this action), and those groundfish species subject to the final rule will be prohibited to directed fishing in regulation (84 FR 2723).

State of Alaska Guideline Harvest Levels

For 2019 and 2020, the Board of Fisheries (BOF) for the State of Alaska (State) established the guideline harvest level (GHL) for vessels using pot gear in State waters in the Bering Sea subarea (BS) equal to 8 percent of the Pacific cod ABC in the BS. Also, for 2019 and 2020, the BOF established an additional GHL for vessels using jig gear in State waters in the BS equal to 45 mt of Pacific cod in the BS. The Council and its Plan Team, SSC, and AP recommended that the sum of all State and Federal water Pacific cod removals from the BS not exceed the ABC recommendations for Pacific cod in the BS. Accordingly, the Council recommended and NMFS approves that the 2019 and 2020 Pacific cod TACs in the BS account for the State's GHLs for Pacific cod caught in State waters in the BS. Also, the BOF approved a one percent annual increase in the BS GHL for vessels using pot gear, up to 15 percent of the BS ABC, if 90 percent of the GHL is harvested by November 15 of the preceding year. If 90 percent of the 2019 BS GHL is not harvested by November 15, 2019, the 2020 GHL will remain at 8 percent. If, however, 90 percent of the 2019 BS GHL is harvested by November 15, 2019, the 2020 GHL will increase by 1 percent to 9 percent of the 2020 BS ABC, and the 2020 BS TAC will be set to account for the increased BS GHL.

For 2019 and 2020, the BOF established a GHL in State waters in the Aleutian Islands subarea (AI) equal to 31 percent of the Pacific cod ABC in the AI. The Council and its Plan Team, SSC, and AP recommended that the sum of all State and Federal water Pacific cod removals from the AI not exceed the ABC recommendations for Pacific cod in the AI. Accordingly, the Council recommended and NMFS approves that the 2019 and 2020 Pacific cod TACs in the AI account for the State's GHL for Pacific cod caught in State waters in the AI.

Changes from the Proposed 2019 and 2020 Harvest Specifications for the BSAI

The Council's recommendations for the proposed 2019 and 2020 harvest specifications (83 FR 62815, December 6, 2018) were based largely on information contained in the 2017 SAFE report for the BSAI groundfish fisheries. Through the proposed harvest specifications, NMFS notified the public that these harvest specifications could change, as the Council would consider information contained in the 2018 SAFE report; recommendations from the Plan Team, SSC, and AP committees; and public comments when making its recommendations for final harvest specifications at the December 2018 Council meeting. NMFS further notified the public that, as required by the FMP and its implementing regulations, the sum of the TACs must be within the OY range of 1.4 million and 2.0 million mt.

Information contained in the 2018 SAFE report indicates biomass changes from the 2017 SAFE report for several groundfish species. The 2018 report was made available for public review during the public comment period for the proposed harvest specifications. At the December 2018 Council meeting, the SSC recommended the 2019 and 2020 ABCs based on the best and most recent information contained in the 2018 SAFE report. This recommendation resulted in an ABC sum total for all BSAI groundfish species in excess of 2.0 million mt for both 2019 and 2020.

Based on increased fishing effort in 2018, the Council recommends final BS pollock TACs increase by 12,800 mt in 2019 and 35,800 mt in 2020 compared to the proposed 2019 and 2020 BS pollock TACs. In terms of percentage, the largest increases in final 2019 and 2020 TACs relative to the proposed 2019 and 2020 TACs include BSAI shortraker rockfish and octopuses. The increases account for anticipated higher incidental catches of these species, based on increased incidental catches in 2018. Other increases in the final 2019 TACs relative to the proposed 2019 TACs include Bering Sea Pacific cod, Alaska plaice, “other flatfish,” Pacific ocean perch, Central Aleutian and Western Aleutian (CAI/WAI) blackspotted/rougheye rockfish, and Western Aleutian Islands (WAI) Atka mackerel. The 2019 increases account for higher interest in directed fishing or higher anticipated incidental catch needs.

Decreases in final 2019 TACs compared to the proposed 2019 TACs include Bogoslof pollock, Aleutian Islands (AI) Pacific cod, BS sablefish, AI sablefish, yellowfin sole, arrowtooth flounder, rock sole, flathead sole, AI “other rockfish,” Eastern Aleutian Islands and Bering Sea (EAI/BS) Atka mackerel, Central Aleutian Islands (CAI) Atka mackerel, skates, and sharks. The decreases for AI Pacific cod, EAI/BS and CAI Atka mackerel, BS sablefish, AI sablefish, and “other rockfish” are to account for ABC constraints. The remaining decreases are for anticipated lower incidental catch needs of these species relative to 2018.

The changes to TACs between the proposed and final harvest specifications are based on the most recent scientific and economic information and are consistent with the FMP, regulatory obligations, and harvest strategy as described in the proposed harvest specifications, including the upper limit for OY of 2.0 million mt. These changes are compared in Table 1A.

Table 1 lists the Council's recommended final 2019 OFL, ABC, TAC, initial TAC (ITAC), and CDQ reserve allocations of the BSAI groundfish species or species groups; and Table 2 lists the Council's recommended final 2020 OFL, ABC, TAC, ITAC, and CDQ reserve allocations of the BSAI groundfish species or species groups. NMFS concurs in these recommendations. These final 2019 and 2020 TAC recommendations for the BSAI are within the OY range established for the BSAI and do not exceed the ABC for any species or species group. The apportionment of TAC amounts among fisheries and seasons is discussed below.

Table 1—Final 2019 Overfishing Level (OFL), Acceptable Biological Catch (ABC), Total Allowable Catch (TAC), Initial TAC (ITAC), and CDQ Reserve Allocation of Groundfish in the BSAI ¹
[Amounts are in metric tons]
Species | Area | 2019: OFL | 2019: ABC | 2019: TAC | 2019: ITAC ² | 2019: CDQ ³
Pollock ⁴ | BS | 3,914,000 | 2,163,000 | 1,397,000 | 1,257,300 | 139,700
| AI | 64,240 | 52,887 | 19,000 | 17,100 | 1,900
| Bogoslof | 183,080 | 137,310 | 75 | 75 |
Pacific cod ⁵ | BS | 216,000 | 181,000 | 166,475 | 148,662 | 17,813
| AI | 27,400 | 20,600 | 14,214 | 12,693 | 1,521
Sablefish | BS | 3,221 | 1,489 | 1,489 | 1,228 | 205
| AI | 4,350 | 2,008 | 2,008 | 1,632 | 339
Yellowfin sole | BSAI | 290,000 | 263,200 | 154,000 | 137,522 | 16,478
Greenland turbot | BSAI | 11,362 | 9,658 | 5,294 | 4,500 | n/a
| BS | n/a | 8,431 | 5,125 | 4,356 | 548
| AI | n/a | 1,227 | 169 | 144 |
Arrowtooth flounder | BSAI | 82,939 | 70,673 | 8,000 | 6,800 | 856
Kamchatka flounder | BSAI | 10,965 | 9,260 | 5,000 | 4,250 |
Rock sole ⁶ | BSAI | 122,000 | 118,900 | 47,100 | 42,060 | 5,040
Flathead sole ⁷ | BSAI | 80,918 | 66,625 | 14,500 | 12,949 | 1,552
Alaska plaice | BSAI | 39,880 | 33,600 | 18,000 | 15,300 |
Other flatfish ⁸ | BSAI | 21,824 | 16,368 | 6,500 | 5,525 |
Pacific ocean perch | BSAI | 61,067 | 50,594 | 44,069 | 38,723 | n/a
| BS | n/a | 14,675 | 14,675 | 12,474 |
| EAI | n/a | 11,459 | 11,009 | 9,831 | 1,178
| CAI | n/a | 8,435 | 8,385 | 7,488 | 897
| WAI | n/a | 16,025 | 10,000 | 8,930 | 1,070
Northern rockfish | BSAI | 15,507 | 12,664 | 6,500 | 5,525 |
Blackspotted/Rougheye rockfish ⁹ | BSAI | 676 | 555 | 279 | 237 |
| BS/EAI | n/a | 351 | 75 | 64 |
| CAI/WAI | n/a | 204 | 204 | 173 |
Shortraker rockfish | BSAI | 722 | 541 | 358 | 304 |
Other rockfish ¹⁰ | BSAI | 1,793 | 1,344 | 663 | 564 |
| BS | n/a | 956 | 275 | 234 |
| AI | n/a | 388 | 388 | 330 |
Atka mackerel | BSAI | 79,200 | 68,500 | 57,951 | 51,750 | 6,201
| BS/EAI | n/a | 23,970 | 23,970 | 21,405 | 2,565
| CAI | n/a | 14,390 | 14,390 | 12,850 | 1,540
| WAI | n/a | 30,140 | 19,591 | 17,495 | 2,096
Skates | BSAI | 51,152 | 42,714 | 26,000 | 22,100 |
Sculpins | BSAI | 53,201 | 39,995 | 5,000 | 4,250 |
Sharks | BSAI | 689 | 517 | 125 | 106 |
Octopuses | BSAI | 4,769 | 3,576 | 400 | 340 |
Total |  | 5,340,955 | 3,367,578 | 2,000,000 | 1,791,495 | 195,297
¹ These amounts apply to the entire BSAI management area unless otherwise specified. With the exception of pollock, and for the purpose of these harvest specifications, the Bering Sea subarea (BS) includes the Bogoslof District.
² Except for pollock, the portion of the sablefish TAC allocated to hook-and-line and pot gear, and Amendment 80 species (Atka mackerel, yellowfin sole, rock sole, flathead sole, Pacific cod, and Aleutian Islands Pacific ocean perch), 15 percent of each TAC is put into a non-specified reserve. The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, blackspotted/rougheye rockfish, “other rockfish,” skates, sculpins, sharks, and octopuses are not allocated to the CDQ program.
⁴ Under § 679.20(a)(5)(i)(A), the annual BS pollock TAC, after subtracting first for the CDQ directed fishing allowance (10 percent) and second for the incidental catch allowance (3.7 percent), is further allocated by sector for a pollock directed fishery as follows: inshore—50 percent; catcher/processor—40 percent; and motherships—10 percent. Under § 679.20(a)(5)(iii)(B)(2), the annual AI pollock TAC, after subtracting first for the CDQ directed fishing allowance (10 percent) and second for the incidental catch allowance (2,400 mt), is allocated to the Aleut Corporation for a pollock directed fishery.
⁵ The BS Pacific cod TAC is set to account for the 8 percent, plus 45 mt, of the BS ABC for the State of Alaska's (State) guideline harvest level in State waters of the BS. The AI Pacific cod TAC is set to account for the 31 percent of the AI ABC for the State guideline harvest level in State waters of the AI.
⁶ “Rock sole” includes Lepidopsetta polyxystra (Northern rock sole) and Lepidopsetta bilineata (Southern rock sole).
⁷ “Flathead sole” includes Hippoglossoides elassodon (flathead sole) and Hippoglossoides robustus (Bering flounder).
⁸ “Other flatfish” includes all flatfish species, except for halibut (a prohibited species), Alaska plaice, arrowtooth flounder, flathead sole, Greenland turbot, Kamchatka flounder, rock sole, and yellowfin sole.
⁹ “Blackspotted/Rougheye rockfish” includes Sebastes aleutianus (rougheye) and Sebastes melanostictus (blackspotted).
¹⁰ “Other rockfish” includes all Sebastes and Sebastolobus species except for Pacific ocean perch, northern rockfish, shortraker rockfish, and blackspotted/rougheye rockfish.
*Note: Regulatory areas and districts are defined at § 679.2 (BSAI = Bering Sea and Aleutian Islands management area, BS = Bering Sea subarea, AI = Aleutian Islands subarea, EAI = Eastern Aleutian district, CAI = Central Aleutian district, WAI = Western Aleutian district).

Table 1a—Comparison of Final 2019 and 2020 With Proposed 2019 and 2020 Total Allowable Catch in the BSAI
[Amounts are in metric tons]
Species | Area ¹ | 2019 Final TAC | 2019 Proposed TAC | 2019 Difference from proposed | 2019 Percentage difference from proposed | 2020 Final TAC | 2020 Proposed TAC | 2020 Difference from proposed | 2020 Percentage difference from proposed
Pollock | BS | 1,397,000 | 1,384,200 | 12,800 | 0.9 | 1,420,000 | 1,384,200 | 35,800 | 2.6
| AI | 19,000 | 19,000 |  |  | 19,000 | 19,000 |  |
| Bogoslof | 75 | 500 | (425) | (85.0) | 75 | 500 | (425) | (85.0)
Pacific cod | BS | 166,475 | 156,355 | 10,120 | 6.5 | 124,625 | 156,355 | (31,730) | (20.3)
| AI | 14,214 | 14,835 | (621) | (4.2) | 14,214 | 14,835 | (621) | (4.2)
Sablefish | BS | 1,489 | 2,061 | (572) | (27.8) | 1,994 | 2,061 | (67) | (3.3)
| AI | 2,008 | 2,798 | (790) | (28.2) | 2,688 | 2,798 | (110) | (3.9)
Yellowfin sole | BSAI | 154,000 | 156,000 | (2,000) | (1.3) | 166,425 | 156,000 | 10,425 | 6.7
Greenland turbot | BS | 5,125 | 5,125 |  |  | 5,125 | 5,125 |  |
| AI | 169 | 169 |  |  | 169 | 169 |  |
Arrowtooth flounder | BSAI | 8,000 | 14,000 | (6,000) | (42.9) | 8,000 | 14,000 | (6,000) | (42.9)
Kamchatka flounder | BSAI | 5,000 | 5,000 |  |  | 5,000 | 5,000 |  |
Rock sole | BSAI | 47,100 | 49,100 | (2,000) | (4.1) | 57,100 | 49,100 | 8,000 | 16.3
Flathead sole | BSAI | 14,500 | 16,500 | (2,000) | (12.1) | 14,500 | 16,500 | (2,000) | (12.1)
Alaska plaice | BSAI | 18,000 | 16,252 | 1,748 | 10.8 | 18,000 | 16,252 | 1,748 | 10.8
Other flatfish | BSAI | 6,500 | 4,000 | 2,500 | 62.5 | 6,500 | 4,000 | 2,500 | 62.5
Pacific ocean perch | BS | 14,675 | 11,499 | 3,176 | 27.6 | 14,274 | 11,499 | 2,775 | 24.1
| EAI | 11,009 | 9,715 | 1,294 | 13.3 | 11,146 | 9,715 | 1,431 | 14.7
| CAI | 8,385 | 7,549 | 836 | 11.1 | 8,205 | 7,549 | 656 | 8.7
| WAI | 10,000 | 9,117 | 883 | 9.7 | 10,000 | 9,117 | 883 | 9.7
Northern rockfish | BSAI | 6,500 | 6,500 |  |  | 6,500 | 6,500 |  |
Blackspotted and Rougheye rockfish | BS/EAI | 75 | 75 |  |  | 75 | 75 |  |
| CAI/WAI | 204 | 150 | 54 | 36.0 | 204 | 150 | 54 | 36.0
Shortraker rockfish | BSAI | 358 | 150 | 208 | 138.7 | 358 | 150 | 208 | 138.7
Other rockfish | BS | 275 | 275 |  |  | 275 | 275 |  |
| AI | 388 | 570 | (182) | (31.9) | 388 |  | (182) | (31.9)
Atka mackerel | EAI/BS | 23,970 | 33,780 | (9,810) | (29.0) | 22,190 | 33,780 | (11,590) | (34.3)
| CAI | 14,390 | 24,895 | (10,505) | (42.2) | 13,310 | 24,895 | (11,585) | (46.5)
| WAI | 19,591 | 13,825 | 5,766 | 41.7 | 18,135 | 13,825 | 4,310 | 31.2
Skates | BSAI | 26,000 | 27,000 | (1,000) | (3.7) | 26,000 | 27,000 | (1,000) | (3.7)
Sculpins | BSAI | 5,000 | 5,000 |  |  | 5,000 | 5,000 |  |
Sharks | BSAI | 125 | 180 | (55) | (30.6) | 125 | 180 | (55) | (30.6)
Octopuses | BSAI | 400 | 200 | 200 | 100.0 | 400 | 200 | 200 | 100.0
Total | BSAI | 2,000,000 | 1,996,375 | 3,625 | 0.2 | 2,000,000 | 1,996,375 | 3,625 | 0.2
¹ Bering Sea subarea (BS), Aleutian Islands subarea (AI), Bering Sea and Aleutian Islands management area (BSAI), Eastern Aleutian District (EAI), Central Aleutian District (CAI), and Western Aleutian District (WAI).

Table 2—Final 2020 Overfishing Level (OFL), Acceptable Biological Catch (ABC), Total Allowable Catch (TAC), Initial TAC (ITAC), and CDQ Reserve Allocation of Groundfish in the BSAI ¹
[Amounts are in metric tons]
Species | Area | 2020: OFL | 2020: ABC | 2020: TAC | 2020: ITAC ² | 2020: CDQ ³
Pollock ⁴ | BS | 3,082,000 | 1,792,000 | 1,420,000 | 1,278,000 | 142,000
| AI | 66,981 | 55,125 | 19,000 | 17,100 | 1,900
| Bogoslof | 183,080 | 137,310 | 75 | 75 |
Pacific cod ⁵ | BS | 183,000 | 137,000 | 124,625 | 111,290 | 13,335
| AI | 27,400 | 20,600 | 14,214 | 12,693 | 1,521
Sablefish | BS | 4,441 | 1,994 | 1,994 | 847 | 75
| AI | 5,997 | 2,688 | 2,688 | 571 | 50
Yellowfin sole | BSAI | 284,000 | 257,800 | 166,425 | 148,618 | 17,807
Greenland turbot | BSAI | 10,476 | 8,908 | 5,294 | 4,500 | n/a
| BS | n/a | 7,777 | 5,125 | 4,356 | 548
| AI | n/a | 1,131 | 169 | 144 |
Arrowtooth flounder | BSAI | 83,814 | 71,411 | 8,000 | 6,800 | 856
Kamchatka flounder | BSAI | 11,260 | 9,509 | 5,000 | 4,250 |
Rock sole ⁶ | BSAI | 147,500 | 143,700 | 57,100 | 50,990 | 6,110
Flathead sole ⁷ | BSAI | 83,190 | 68,448 | 14,500 | 12,949 | 1,552
Alaska plaice | BSAI | 37,860 | 31,900 | 18,000 | 15,300 |
Other flatfish ⁸ | BSAI | 21,824 | 16,368 | 6,500 | 5,525 |
Pacific ocean perch | BSAI | 59,396 | 49,211 | 43,625 | 38,343 | n/a
| BS | n/a | 14,274 | 14,274 | 12,133 |
| EAI | n/a | 11,146 | 11,146 | 9,953 | 1,193
| CAI | n/a | 8,205 | 8,205 | 7,327 | 878
| WAI | n/a | 15,586 | 10,000 | 8,930 | 1,070
Northern rockfish | BSAI | 15,180 | 12,396 | 6,500 | 5,525 |
Blackspotted/Rougheye rockfish ⁹ | BSAI | 868 | 715 | 279 | 237 |
| BS/EAI | n/a | 448 | 75 | 64 |
| CAI/WAI | n/a | 267 | 204 | 173 |
Shortraker rockfish | BSAI | 722 | 541 | 358 | 304 |
Other rockfish ¹⁰ | BSAI | 1,793 | 1,344 | 663 | 564 |
| BS | n/a | 956 | 275 | 234 |
| AI | n/a | 388 | 388 | 330 |
Atka mackerel | BSAI | 73,400 | 63,400 | 53,635 | 47,896 | 5,739
| EAI/BS | n/a | 22,190 | 22,190 | 19,816 | 2,374
| CAI | n/a | 13,310 | 13,310 | 11,886 | 1,424
| WAI | n/a | 27,900 | 18,135 | 16,195 | 1,940
Skates | BSAI | 48,944 | 40,813 | 26,000 | 22,100 |
Sculpins | BSAI | 53,201 | 39,995 | 5,000 | 4,250 |
Sharks | BSAI | 689 | 517 | 125 | 106 |
Octopuses | BSAI | 4,769 | 3,576 | 400 | 340 |
Total |  | 4,491,785 | 2,967,269 | 2,000,000 | 1,789,174 | 194,634
¹ These amounts apply to the entire BSAI management area unless otherwise specified. With the exception of pollock, and for the purpose of these harvest specifications, the Bering Sea subarea (BS) includes the Bogoslof District.
² Except for pollock, the portion of the sablefish TAC allocated to hook-and-line and pot gear, and Amendment 80 species (Atka mackerel, flathead sole, rock sole, yellowfin sole, Pacific cod, and Aleutian Islands Pacific ocean perch), 15 percent of each TAC is put into a non-specified reserve. The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, blackspotted/rougheye rockfish, “other rockfish,” skates, sculpins, sharks, and octopuses are not allocated to the CDQ program.
⁴ Under § 679.20(a)(5)(i)(A), the annual BS pollock TAC, after subtracting first for the CDQ directed fishing allowance (10 percent) and second for the incidental catch allowance (3.7 percent), is further allocated by sector for a pollock directed fishery as follows: inshore—50 percent; catcher/processor—40 percent; and motherships—10 percent. Under § 679.20(a)(5)(iii)(B)(2), the annual AI pollock TAC, after subtracting first for the CDQ directed fishing allowance (10 percent) and second for the incidental catch allowance (2,400 mt), is allocated to the Aleut Corporation for a pollock directed fishery.
⁵ Assuming an increase in the 2020 guideline harvest level based on the actual 2019 harvest, the 2020 BS Pacific cod TAC is set to account for the 9 percent, plus 45 mt, of the BS ABC for the State of Alaska's (State) guideline harvest level in State waters of the BS. The 2020 AI Pacific cod TAC is set to account for the 31 percent of the AI ABC for the State guideline harvest level in State waters of the AI.
⁶ “Rock sole” includes Lepidopsetta polyxystra (Northern rock sole) and Lepidopsetta bilineata (Southern rock sole).
⁷ “Flathead sole” includes Hippoglossoides elassodon (flathead sole) and Hippoglossoides robustus (Bering flounder).
⁸ “Other flatfish” includes all flatfish species, except for halibut (a prohibited species), Alaska plaice, arrowtooth flounder, flathead sole, Greenland turbot, Kamchatka flounder, rock sole, and yellowfin sole.
⁹ “Blackspotted/Rougheye rockfish” includes Sebastes aleutianus (rougheye) and Sebastes melanostictus (blackspotted).
¹⁰ “Other rockfish” includes all Sebastes and Sebastolobus species except for Pacific ocean perch, northern rockfish, shortraker rockfish, and blackspotted/rougheye rockfish.
Note: Regulatory areas and districts are defined at § 679.2 (BSAI = Bering Sea and Aleutian Islands management area, BS = Bering Sea subarea, AI = Aleutian Islands subarea, EAI = Eastern Aleutian district, CAI = Central Aleutian district, WAI = Western Aleutian district).

Groundfish Reserves and the Incidental Catch Allowance (ICA) for Pollock, Atka Mackerel, Flathead Sole, Rock Sole, Yellowfin Sole, and Aleutian Islands Pacific Ocean Perch

Section 679.20(b)(1)(i) requires that NMFS reserves 15 percent of the TAC for each target species, except for pollock, hook-and-line and pot gear allocation of sablefish, and Amendment 80 species, in a non-specified reserve. Section 679.20(b)(1)(ii)(B) requires that NMFS allocate 20 percent of the hook-and-line or pot gear allocation of sablefish for the fixed-gear sablefish CDQ reserve for each subarea. Section 679.20(b)(1)(ii)(D) requires that NMFS allocate 7.5 percent of the trawl gear allocations of sablefish in the BS and AI and 10.7 percent of the Bering Sea Greenland turbot and arrowtooth flounder TACs to the respective CDQ reserves. Section 679.20(b)(1)(ii)(C) requires that NMFS allocate 10.7 percent of the TACs for Atka mackerel, Aleutian Islands Pacific ocean perch, yellowfin sole, rock sole, flathead sole, and Pacific cod to the respective CDQ reserves. Sections 679.20(a)(5)(i)(A) and 679.31(a) also require that 10 percent of the Bering Sea pollock TAC be allocated to the pollock CDQ directed fishing allowance (DFA). Sections 679.20(a)(5)(iii)(B)(2)(i) and 679.31(a) require that 10 percent of the Aleutian Islands pollock TAC be allocated to the pollock CDQ DFA. The entire Bogoslof District pollock TAC is allocated as an ICA pursuant to § 679.20(a)(5)(ii) because the Bogoslof District is closed to directed fishing for pollock by regulation (§ 679.22(a)(7)(i)(B)). With the exception of the hook-and-line or pot gear sablefish CDQ reserve, the regulations do not further apportion the CDQ allocations by gear.

Pursuant to § 679.20(a)(5)(i)(A)(1), NMFS allocates a pollock ICA of 3.7 percent of the BS pollock TAC after subtracting the 10 percent CDQ DFA. This allowance is based on NMFS's examination of the pollock incidental catch, including the incidental catch by CDQ vessels, in target fisheries other than pollock from 2000 through 2018. During this 19-year period, the pollock incidental catch ranged from a low of 2.2 percent in 2006 to a high of 4.6 percent in 2014, with a 19-year average of 3 percent. Pursuant to § 679.20(a)(5)(iii)(B)(2)(i) and (ii), NMFS establishes a pollock ICA of 2,400 mt of the AI pollock TAC after subtracting the 10 percent CDQ DFA. This allowance is based on NMFS's examination of the pollock incidental catch, including the incidental catch by CDQ vessels, in target fisheries other than pollock from 2003 through 2018. During this 16-year period, the incidental catch of pollock ranged from a low of 5 percent in 2006 to a high of 17 percent in 2014, with a 16-year average of 8 percent.

Pursuant to § 679.20(a)(8) and (10), NMFS allocates ICAs of 3,000 mt of flathead sole, 6,000 mt of rock sole, 4,000 mt of yellowfin sole, 10 mt of WAI Pacific ocean perch, 60 mt of CAI Pacific ocean perch, 100 mt of EAI Pacific ocean perch, 20 mt of WAI Atka mackerel, 75 mt of CAI Atka mackerel, and 800 mt of EAI and BS Atka mackerel TAC after subtracting the 10.7 percent CDQ reserve. These ICA allowances are based on NMFS's examination of the incidental catch in other target fisheries from 2003 through 2018.

The regulations do not designate the remainder of the non-specified reserve by species or species group. Any amount of the reserve may be apportioned to a target species that contributed to the non-specified reserves during the year, provided that such apportionments are consistent with § 679.20(a)(3) and do not result in overfishing (see § 679.20(b)(1)(i)). The Regional Administrator has determined that the ITACs specified for the species listed in Table 1 need to be supplemented from the non-specified reserve because U.S. fishing vessels have demonstrated the capacity to catch the full TAC allocations. Therefore, in accordance with § 679.20(b)(3), NMFS is apportioning the amounts shown in Table 3 from the non-specified reserve to increase the ITAC for AI “other rockfish” by 15 percent of the “other rockfish” TAC in 2019 and 2020.

Table 3—Final 2019 and 2020 Apportionment of Non-Specified Reserves to ITAC Categories
[Amounts are in metric tons]
Species-area or subarea | 2019 ITAC | 2019 Reserve amount | 2019 Final ITAC | 2020 ITAC | 2020 Reserve amount | 2020 Final ITAC
Other rockfish-Aleutian Islands subarea | 330 | 58 | 388 | 330 | 58 | 388
Total | 330 | 58 | 388 | 330 | 58 | 388

Allocation of Pollock TAC Under the American Fisheries Act (AFA)

Section 679.20(a)(5)(i)(A) requires that the BS pollock TAC be apportioned as a DFA, after subtracting 10 percent for the CDQ program and 3.7 percent for the ICA, as follows: 50 percent to the inshore sector, 40 percent to the catcher/processor (C/P) sector, and 10 percent to the mothership sector. In the BS, 45 percent of the DFA is allocated to the A season (January 20-June 10), and 55 percent of the DFA is allocated to the B season (June 10-November 1) (§§ 679.20(a)(5)(i)(B)(1) and 679.23(e)(2)). The Aleutian Islands directed pollock fishery allocation to the Aleut Corporation is the amount of pollock TAC remaining in the AI after subtracting 1,900 mt for the CDQ DFA (10 percent) and 2,400 mt for the ICA (§ 679.20(a)(5)(iii)(B)(2)). In the AI, the total A season apportionment of the TAC (including the AI directed fishery allocation, the CDQ seasonal allowance, and the ICA) may equal up to 40 percent of the ABC for AI pollock, and the remainder of the TAC is allocated to the B season (§ 679.20(a)(5)(iii)(B)(3)). Tables 4 and 5 list these 2019 and 2020 amounts.

Section 679.20(a)(5)(iii)(B)(6) sets harvest limits for pollock in the A season (January 20 to June 10) in Areas 543, 542, and 541. In Area 543, the A season pollock harvest limit is no more than 5 percent of the Aleutian Islands pollock ABC. In Area 542, the A season pollock harvest limit is no more than 15 percent of the Aleutian Islands pollock ABC. In Area 541, the A season pollock harvest limit is no more than 30 percent of the Aleutian Islands pollock ABC.

Section 679.20(a)(5)(i)(A)(4) also includes several specific requirements regarding BS pollock allocations. First, it requires that 8.5 percent of the pollock allocated to the C/P sector be available for harvest by AFA catcher vessels (CVs) with C/P sector endorsements, unless the Regional Administrator receives a cooperative contract that allows the distribution of harvest among AFA C/Ps and AFA CVs in a manner agreed to by all members. Second, AFA C/Ps not listed in the AFA are limited to harvesting not more than 0.5 percent of the pollock allocated to the C/P sector. Tables 4 and 5 list the 2019 and 2020 allocations of pollock TAC. Tables 20 through 25 list the AFA C/P and CV harvesting sideboard limits. The tables for the pollock allocations to the BS inshore pollock cooperatives and open access sector will be posted on the Alaska Region website at https://alaskafisheries.noaa.gov.

Tables 4 and 5 also list seasonal apportionments of pollock and harvest limits within the Steller Sea Lion Conservation Area (SCA). The harvest of pollock within the SCA, as defined at § 679.22(a)(7)(vii), is limited to no more than 28 percent of the annual pollock DFA before 12 noon, April 1, as provided in § 679.20(a)(5)(i)(C). The A season pollock SCA harvest limit will be apportioned to each sector in proportion to each sector's allocated percentage of the DFA. Tables 4 and 5 list these 2019 and 2020 amounts by sector.

Table 4—Final 2019 Allocations of Pollock TACs to the Directed Pollock Fisheries and to the CDQ Directed Fishing Allowances (DFA) ¹
[Amounts are in metric tons]
Area and sector | 2019 Allocations | 2019 A season ¹: A season DFA | 2019 A season ¹: SCA harvest limit ² | 2019 B season ¹: B season DFA
Bering Sea subarea TAC ¹ | 1,397,000 | n/a | n/a | n/a
CDQ DFA | 139,700 | 62,865 | 39,116 | 76,835
ICA ¹ | 46,520 | n/a | n/a | n/a
Total Bering Sea non-CDQ DFA | 1,210,780 | 544,851 | 339,018 | 665,929
AFA Inshore | 605,390 | 272,425 | 169,509 | 332,964
AFA Catcher/Processors ³ | 484,312 | 217,940 | 135,607 | 266,372
Catch by C/Ps | 443,145 | 199,415 | n/a | 243,730
Catch by CVs ³ | 41,167 | 18,525 | n/a | 22,642
Unlisted C/P Limit ⁴ | 2,422 | 1,090 | n/a | 1,332
AFA Motherships | 121,078 | 54,485 | 33,902 | 66,593
Excessive Harvesting Limit ⁵ | 211,886 | n/a | n/a | n/a
Excessive Processing Limit ⁶ | 363,234 | n/a | n/a | n/a
Aleutian Islands subarea ABC | 52,887 | n/a | n/a | n/a
Aleutian Islands subarea TAC ¹ | 19,000 | n/a | n/a | n/a
CDQ DFA | 1,900 | 1,900 | n/a
ICA | 2,400 | 1,200 | n/a | 1,200
Aleut Corporation | 14,700 | 14,700 | n/a
Area harvest limit ⁷ | n/a | n/a | n/a | n/a
541 | 15,866 | n/a | n/a | n/a
542 | 7,933 | n/a | n/a | n/a
543 | 2,644 | n/a | n/a | n/a
Bogoslof District ICA ⁸ | 75 | n/a | n/a | n/a
¹ Pursuant to § 679.20(a)(5)(i)(A), the Bering Sea subarea pollock TAC, after subtracting the CDQ DFA (10 percent) and the ICA (3.7 percent), is allocated as a DFA as follows: Inshore sector—50 percent, catcher/processor sector (C/P)—40 percent, and mothership sector—10 percent. In the Bering Sea subarea, 45 percent of the DFA is allocated to the A season (January 20-June 10) and 55 percent of the DFA is allocated to the B season (June 10-November 1). Pursuant to § 679.20(a)(5)(iii)(B)(2), the annual Aleutian Islands pollock TAC, after subtracting first for the CDQ DFA (10 percent) and second for the ICA (2,400 mt), is allocated to the Aleut Corporation for a pollock directed fishery. In the Aleutian Islands subarea, the A season is allocated up to 40 percent of the ABC for AI pollock.
² In the Bering Sea subarea, pursuant to § 679.20(a)(5)(i)(C), no more than 28 percent of each sector's annual DFA may be taken from the SCA before noon, April 1.
³ Pursuant to § 679.20(a)(5)(i)(A)(4), 8.5 percent of the DFA allocated to listed C/Ps shall be available for harvest only by eligible catcher vessels with a C/P endorsement delivering to listed C/Ps, unless there is a C/P sector cooperative for the year.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.
Note: Seasonal or sector apportionments may not total precisely due to rounding.

Table 5—Final 2020 Allocations of Pollock TACs to the Directed Pollock Fisheries and to the CDQ Directed Fishing Allowances (DFA) ¹
[Amounts are in metric tons]
Area and sector | 2020 Allocations | 2020 A season ¹: A season DFA | 2020 A season ¹: SCA harvest limit ² | 2020 B season ¹: B season DFA
Bering Sea subarea TAC ¹ | 1,420,000 | n/a | n/a | n/a
CDQ DFA | 142,000 | 63,900 | 39,760 | 78,100
ICA ¹ | 47,286 | n/a | n/a | n/a
Total Bering Sea non-CDQ DFA | 1,230,714 | 553,821 | 344,600 | 676,893
AFA Inshore | 615,357 | 276,911 | 172,300 | 338,446
AFA Catcher/Processors ³ | 492,286 | 221,529 | 137,840 | 270,757
Catch by C/Ps | 450,441 | 202,699 | n/a | 247,743
Catch by CVs ³ | 41,844 | 18,830 | n/a | 23,014
Unlisted C/P Limit ⁴ | 2,461 | 1,108 | n/a | 1,354
AFA Motherships | 123,071 | 55,382 | 34,460 | 67,689
Excessive Harvesting Limit ⁵ | 215,375 | n/a | n/a | n/a
Excessive Processing Limit ⁶ | 369,214 | n/a | n/a | n/a
Aleutian Islands subarea ABC | 30,803 | n/a | n/a | n/a
Aleutian Islands subarea TAC ¹ | 19,000 | n/a | n/a | n/a
CDQ DFA | 1,900 | 760 | n/a | 1,140
ICA | 2,400 | 1,200 | n/a | 1,200
Aleut Corporation | 14,700 | 10,361 | n/a | 4,339
Area harvest limit ⁷ 541 | 9,241 | n/a | n/a | n/a
542 | 4,620 | n/a | n/a | n/a
543 | 1,540 | n/a | n/a | n/a
Bogoslof District ICA ⁸ | 500 | n/a | n/a | n/a
¹ Pursuant to § 679.20(a)(5)(i)(A), the Bering Sea subarea pollock TAC, after subtracting the CDQ DFA (10 percent) and the ICA (3.7 percent), is allocated as a DFA as follows: Inshore sector—50 percent, catcher/processor sector (C/P)—40 percent, and mothership sector—10 percent. In the Bering Sea subarea, 45 percent of the DFA is allocated to the A season (January 20-June 10) and 55 percent of the DFA is allocated to the B season (June 10-November 1). Pursuant to § 679.20(a)(5)(iii)(B)(2), the annual Aleutian Islands pollock TAC, after subtracting first for the CDQ DFA (10 percent) and second for the ICA (2,400 mt), is allocated to the Aleut Corporation for a pollock directed fishery. In the Aleutian Islands subarea, the A season is allocated up to 40 percent of the ABC for AI pollock.
² In the Bering Sea subarea, pursuant to § 679.20(a)(5)(i)(C), no more than 28 percent of each sector's annual DFA may be taken from the SCA before noon, April 1.
³ Pursuant to § 679.20(a)(5)(i)(A)(4), 8.5 percent of the DFA allocated to listed C/Ps shall be available for harvest only by eligible catcher vessels with a C/P endorsement delivering to listed C/Ps, unless there is a C/P sector cooperative for the year.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.
Note: Seasonal or sector apportionments may not total precisely due to rounding.

Allocation of the Atka Mackerel TACs

Section 679.20(a)(8) allocates the Atka mackerel TACs to the Amendment 80 and BSAI trawl limited access sectors, after subtracting the CDQ reserves, ICAs for the BSAI trawl limited access sector and non-trawl gear sector, and the jig gear allocation (Tables 6 and 7). The percentage of the ITAC for Atka mackerel allocated to the Amendment 80 and BSAI trawl limited access sectors is listed in Table 33 to 50 CFR part 679 and in § 679.91. Pursuant to § 679.20(a)(8)(i), up to 2 percent of the EAI and the BS Atka mackerel ITAC may be allocated to vessels using jig gear. The percent of this allocation is recommended annually by the Council based on several criteria, including, among other criteria, the anticipated harvest capacity of the jig gear fleet. The Council recommended, and NMFS approves, a 0.5 percent allocation of the Atka mackerel ITAC in the EAI and BS to the jig gear sector in 2019 and 2020.

Section 679.20(a)(8)(ii)(A) apportions the Atka mackerel TAC into two equal seasonal allowances. Section 679.23(e)(3) sets the first seasonal allowance for directed fishing with trawl gear from January 20 through June 10 (A season), and the second seasonal allowance from June 10 through December 31 (B season). Section 679.23(e)(4)(iii) applies Atka mackerel seasons to CDQ Atka mackerel trawl fishing. The ICAs and jig gear allocations are not apportioned by season.

Section 679.20(a)(8)(ii)(C)(1)(i) and (ii) limits Atka mackerel catch within waters 0 nm to 20 nm of Steller sea lion sites listed in Table 6 to 50 CFR part 679 and located west of 178° W longitude to no more than 60 percent of the annual TACs in Areas 542 and 543, and equally divides the annual TACs between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nm to 20 nm of Steller sea lion sites listed in Table 6 to 50 CFR part 679 and located in Areas 541, 542, and 543.

Tables 6 and 7 list these 2019 and 2020 Atka mackerel seasonal and area allowances, and the sector allocations. One Amendment 80 cooperative has formed for the 2019 fishing year. Because all Amendment 80 vessels are part of the sole Amendment 80 cooperative, no allocation to the Amendment 80 limited access sector is required for 2019. The 2020 allocations for Atka mackerel between Amendment 80 cooperatives and the Amendment 80 limited access sector will not be known until eligible participants apply for participation in the program by November 1, 2019.

Table 6—Final 2019 Seasonal and Spatial Allowances, Gear Shares, CDQ Reserve, Incidental Catch Allowance, and Amendment 80 Allocations of the BSAI Atka Mackerel TAC
[Amounts are in metric tons]
Sector ¹ | Season 2 3 4 | 2019 Allocation by area: Eastern Aleutian district/Bering Sea | 2019 Allocation by area: Central Aleutian District ⁵ | 2019 Allocation by area: Western Aleutian District
TAC | n/a | 23,970 | 14,390 | 19,591
CDQ reserve | Total | 2,565 | 1,540 | 2,096
| A | 1,282 | 770 | 1,048
| Critical Habitat | n/a | 462 | 629
| B | 1,282 | 770 | 1,048
| Critical Habitat | n/a | 462 | 629
Non-CDQ TAC | n/a | 21,405 | 12,850 | 17,495
ICA | Total | 800 | 75 | 20
Jig ⁷ | Total | 103
BSAI trawl limited access | Total | 2,050 | 1,278
| A | 1,025 | 639
| Critical Habitat | n/a | 383
| B | 1,025 | 639
| Critical Habitat | n/a | 383
Amendment 80 sector | Total | 18,452 | 11,498 | 17,475
| A | 9,226 | 5,749 | 8,737
| Critical Habitat | n/a | 3,449 | 5,242
| B | 9,226 | 5,749 | 8,737
| Critical Habitat | n/a | 3,449 | 5,242
¹ Section 679.20(a)(8)(ii) allocates the Atka mackerel TACs, after subtracting the CDQ reserves, jig gear allocation, and ICAs, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion critical habitat; section 679.20(a)(8)(ii)(C)(1)(ii) equally divides the annual TACs between the A and B seasons as defined at § 679.23(e)(3); and section 679.20(a)(8)(ii)(C)(2) requires the TAC in Area 543 shall be no more than 65 percent of ABC in Area 543.
⁶ Section 679.20(a)(8)(i) requires that up to 2 percent of the Eastern Aleutian District and the Bering Sea subarea TAC be allocated to jig gear after subtracting the CDQ reserve and the ICA. NMFS sets the amount of this allocation for 2019 at 0.5 percent. The jig gear allocation is not apportioned by season.
Note: Seasonal or sector apportionments may not total precisely due to rounding.

Table 7—Final 2020 Seasonal and Spatial Allowances, Gear Shares, CDQ Reserve, Incidental Catch Allowance, and Amendment 80 Allocation of the BSAI Atka Mackerel TAC
[Amounts are in metric tons]
Sector ¹ | Season 2 3 4 | 2020 Allocation by area: Eastern Aleutian District/Bering Sea ⁵ | 2020 Allocation by area: Central Aleutian District ⁵ | 2020 Allocation by area: Western Aleutian District ⁵
TAC | n/a | 22,190 | 13,310 | 18,135
CDQ reserve | Total | 2,374 | 1,424 | 1,940
| A | 1,187 | 712 | 970
| Critical Habitat | n/a | 427 | 582
| B | 1,187 | 712 | 970
| Critical Habitat | n/a | 427 | 582
non-CDQ TAC | n/a | 19,816 | 11,886 | 16,195
ICA | Total | 800 | 75 | 20
Jig ⁷ | Total | 95 |  |
BSAI trawl limited access | Total | 1,892 | 1,181 | -
| A | 946 | 591 |
| Critical Habitat | n/a | 354 |
| B | 946 | 591 |
| Critical Habitat | n/a | 354 |
Amendment 80 sectors ⁷ | Total | 17,029 | 10,630 | 16,175
| A | 8,514 | 5,315 | 8,087
| Critical Habitat | n/a | 3,189 | 4,852
| B | 8,514 | 5,315 | 8,087
| Critical Habitat | n/a | 3,189 | 4,852
¹ Section 679.20(a)(8)(ii) allocates the Atka mackerel TACs, after subtracting the CDQ reserves, jig gear allocation, and ICAs, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion critical habitat; section 679.20(a)(8)(ii)(C)(1)(ii) equally divides the annual TACs between the A and B seasons as defined at § 679.23(e)(3); and section 679.20(a)(8)(ii)(C)(2) requires the TAC in Area 543 shall be no more than 65 percent of ABC in Area 543.
⁶ Section 679.20(a)(8)(i) requires that up to 2 percent of the Eastern Aleutian District and the Bering Sea subarea TAC be allocated to jig gear after subtracting the CDQ reserve and the ICA. NMFS sets the amount of this allocation for 2020 at 0.5 percent. The jig gear allocation is not apportioned by season.
⁷ The 2020 allocations for Atka mackerel between Amendment 80 cooperatives and the Amendment 80 limited access sector will not be known until eligible participants apply for participation in the program by November 1, 2019.
Note: Seasonal or sector apportionments may not total precisely due to rounding.

Allocation of the Pacific Cod TAC

The Council separated Bering Sea and Aleutian Islands subarea OFLs, ABCs, and TACs for Pacific cod in 2014 (79 FR 12108, March 4, 2014). Section 679.20(b)(1)(ii)(C) allocates 10.7 percent of the Bering Sea TAC and the Aleutian Islands TAC to the CDQ program. After CDQ allocations have been deducted from the respective Bering Sea and Aleutian Islands Pacific cod TACs, the remaining Bering Sea and Aleutian Islands Pacific cod TACs are combined for calculating further BSAI Pacific cod sector allocations. If the non-CDQ Pacific cod TAC is or will be reached in either the Bering Sea or the Aleutian Islands subareas, NMFS will prohibit non-CDQ directed fishing for Pacific cod in that subarea as provided in § 679.20(d)(1)(iii).

Section 679.20(a)(7)(i) and (ii) allocates to the non-CDQ sectors the Pacific cod TAC in the combined BSAI TAC, after subtracting 10.7 percent for the CDQ program, as follows: 1.4 percent to vessels using jig gear; 2.0 percent to hook-and-line or pot CVs less than 60 ft (18.3 m) length overall (LOA); 0.2 percent to hook-and-line CVs greater than or equal to 60 ft (18.3 m) LOA; 48.7 percent to hook-and-line C/Ps; 8.4 percent to pot CVs greater than or equal to 60 ft (18.3 m) LOA; 1.5 percent to pot C/Ps; 2.3 percent to AFA trawl C/Ps; 13.4 percent to Amendment 80 sector; and 22.1 percent to trawl CVs. The ICA for the hook-and-line and pot sectors will be deducted from the aggregate portion of Pacific cod TAC allocated to the hook-and-line and pot sectors. For 2019 and 2020, the Regional Administrator establishes an ICA of 400 mt based on anticipated incidental catch by these sectors in other fisheries.

The ITAC allocation of Pacific cod to the Amendment 80 sector is established in Table 33 to 50 CFR part 679 and § 679.91. One Amendment 80 cooperative has formed for the 2019 fishing year. Because all Amendment 80 vessels are part of the sole Amendment 80 cooperative, no allocation to the Amendment 80 limited access sector is required for 2019. The 2020 allocations for Amendment 80 species between Amendment 80 cooperatives and the Amendment 80 limited access sector will not be known until eligible participants apply for participation in the program by November 1, 2019.

The sector allocations of Pacific cod are apportioned into seasonal allowances to disperse the Pacific cod fisheries over the fishing year (see §§ 679.20(a)(7)(i)(B), 679.20(a)(7)(iv)(A), and 679.23(e)(5)). In accordance with § 679.20(a)(7)(iv)(B) and (C), any unused portion of a seasonal Pacific cod allowance for any sector, except the jig sector, will become available at the beginning of that sector's next seasonal allowance.

Section 679.20(a)(7)(vii) requires that the Regional Administrator establish an Area 543 Pacific cod harvest limit based on Pacific cod abundance in Area 543. Based on the 2018 stock assessment, the Regional Administrator determined the Pacific cod abundance in Area 543 to be 15.7 percent for 2019 and 2020. NMFS will first subtract the State GHL Pacific cod amount from the Aleutian Islands Pacific cod ABC. Then NMFS will determine the harvest limit in Area 543 by multiplying the percentage of Pacific cod estimated in Area 543 by the remaining ABC for Aleutian Islands Pacific cod. Based on these calculations, the Area 543 harvest limit is 2,232 mt for 2019 and 2020.

Section 679.20(a)(7)(viii) requires specification of annual Pacific cod allocations for the Aleutian Islands non-CDQ ICA, non-CDQ DFA, CV Harvest Set-Aside, and Unrestricted Fishery, as well as the Bering Sea Trawl CV A-Season Sector Limitation. The CV Harvest Set-Aside is a portion of the AI Pacific cod TAC that is available for harvest by catcher vessels directed fishing for AI Pacific cod and delivering their catch for processing to an AI shoreplant. If NMFS receives notification of intent to process AI Pacific cod from either the City of Adak or the City of Atka by October 31 of the previous year, the harvest limits in Tables 9a or 9b will be in effect in the following year.

Prior to October 31, 2018, NMFS received timely and complete notice from the City of Adak indicating an intent to process AI Pacific cod in 2019. Accordingly, the harvest limits in Table 9a will be in effect in 2019, subject to the requirements outlined in § 679.20(a)(7)(viii)(E). If less than 1,000 mt of the Aleutian Islands CV Harvest Set-Aside is delivered at Aleutian Islands shoreplants by February 28, 2019, then the Aleutian Islands CV Harvest Set-Aside is lifted and the Bering Sea Trawl CV A-Season Sector Limitation is suspended. If the entire Aleutian Islands CV Harvest Set-Aside is fully harvested and delivered to Aleutian Islands shoreplants before March 15, 2019, then the Bering Sea Trawl CV A-Season Sector Limitation will be suspended for the remainder of the fishing year.

If NMFS receives notice of intent to process AI Pacific cod from either the City of Adak or the City of Atka prior to October 31, 2019, for the 2020 fishing year, Table 9b will be in effect in 2020, subject to the requirements outlined in § 679.20(a)(7)(viii)(E).

The CDQ and non-CDQ seasonal allowances by gear based on the 2019 and 2020 Pacific cod TACs are listed in Tables 8 and 9, and are based on the sector allocation percentages of Pacific cod set forth at § 679.20(a)(7)(i)(B) and (a)(7)(iv)(A); and the seasons set forth at § 679.23(e)(5).

Table 8—Final 2019 Gear Shares and Seasonal Allowances of the BSAI Pacific Cod TAC
[Amounts are in metric tons]
Gear sector | Percent | 2019 Share of gear sector total | 2019 Share of sector total | 2019 Seasonal apportionment: Seasons | 2019 Seasonal apportionment: Amount
BS TAC | n/a | 166,475 | n/a | n/a | n/a
BS CDQ | n/a | 17,813 | n/a | see § 679.20(a)(7)(i)(B) | n/a
BS non-CDQ TAC | n/a | 148,662 | n/a | n/a | n/a
AI TAC | n/a | 14,214 | n/a | n/a | n/a
AI CDQ | n/a | 1,521 | n/a | see § 679.20(a)(7)(i)(B) | n/a
AI non-CDQ TAC | n/a | 12,693 | n/a | n/a | n/a
Western Aleutian Island Limit | n/a | 2,232 | n/a | n/a | n/a
Total BSAI non-CDQ TAC ¹ | 100 | 161,355 | n/a | n/a | n/a
Total hook-and-line/pot gear | 60.8 | 98,104 | n/a | n/a | n/a
Hook-and-line/pot ICA ² | n/a | 400 | n/a | see § 679.20(a)(7)(ii)(B) | n/a
Hook-and-line/pot sub-total | n/a | 97,704 | n/a | n/a | n/a
Hook-and-line catcher/processor | 48.7 | n/a | 78,260 | Jan 1-Jun 10 | 39,912
|  |  |  | Jun 10-Dec 31 | 38,347
Hook-and-line catcher vessel ≥ 60 ft LOA | 0.2 | n/a | 321 | Jan 1-Jun 10 | 164
|  |  |  | Jun 10-Dec 31 | 157
Pot catcher/processor | 1.5 | n/a | 2,410 | Jan 1-Jun 10 | 1,229
|  |  |  | Sept 1-Dec 31 | 1,181
Pot catcher vessel ≥ 60 ft LOA | 8.4 | n/a | 13,499 | Jan 1-Jun 10 | 6,884
|  |  |  | Sept 1-Dec 31 | 6,614
Catcher vessel < 60 ft LOA using hook-and-line or pot gear | 2.0 | n/a | 3,214 | n/a | n/a
Trawl catcher vessel | 22.1 | 35,660 | n/a | Jan 20-Apr 1 | 26,388
|  |  |  | Apr 1-Jun 10 | 3,923
|  |  |  | Jun 10-Nov 1 | 5,349
AFA trawl catcher/processor | 2.3 | 3,711 | n/a | Jan 20-Apr 1 | 2,783
|  |  |  | Apr 1-Jun 10 | 928
|  |  |  | Jun 10-Nov 1 |
Amendment 80 | 13.4 | 21,622 | n/a | Jan 20-Apr 1 | 16,216
|  |  |  | Apr 1-Jun 10 | 5,405
|  |  |  | Jun 10-Nov 1 |
Jig | 1.4 | 2,259 | n/a | Jan 1-Apr 30 | 1,355
|  |  |  | Apr 30-Aug 31 | 452
|  |  |  | Aug 31-Dec 31 | 452
¹ The gear shares and seasonal allowances for BSAI Pacific cod TAC are based on the sum of the BS and AI Pacific cod TACs, after the subtraction of CDQ. If the TAC for Pacific cod in either the AI or BS is reached, then directed fishing for Pacific cod in that subarea will be prohibited, even if a BSAI allowance remains.
² The ICA for the hook-and-line and pot sectors will be deducted from the aggregate portion of Pacific cod TAC allocated to the hook-and-line and pot sectors. The Regional Administrator approves an ICA of 400 mt for 2019 based on anticipated incidental catch in these fisheries.
Note: Seasonal or sector apportionments may not total precisely due to rounding.

Table 9—Final 2020 Gear Shares and Seasonal Allowances of the BSAI Pacific Cod TAC
[Amounts are in metric tons]
Gear sector | Percent | 2020 Share of gear sector total | 2020 Share of sector total | 2020 Seasonal apportionment: Seasons | 2020 Seasonal apportionment: Amount
BS TAC | n/a | 124,625 | n/a | n/a | n/a
BS CDQ | n/a | 13,335 | n/a | see § 679.20(a)(7)(i)(B) | n/a
BS non-CDQ TAC | n/a | 111,290 | n/a | n/a | n/a
AI TAC | n/a | 14,214 | n/a | n/a | n/a
AI CDQ | n/a | 1,521 | n/a | see § 679.20(a)(7)(i)(B) | n/a
AI non-CDQ TAC | n/a | 12,693 | n/a | n/a | n/a
Western Aleutian Island Limit | n/a | 2,232 | n/a | n/a | n/a
Total BSAI non-CDQ TAC ¹ | n/a | 123,983 | n/a | n/a | n/a
Total hook-and-line/pot gear | 60.8 | 75,382 | n/a | n/a | n/a
Hook-and-line/pot ICA ² | n/a | 400 | n/a | see § 679.20(a)(7)(ii)(B) | n/a
Hook-and-line/pot sub-total | n/a | 74,982 | n/a | n/a | n/a
Hook-and-line catcher/processor | 48.7 | n/a | 60,059 | Jan 1-Jun 10 | 30,630
|  |  |  | Jun 10-Dec 31 | 29,429
Hook-and-line catcher vessel ≥ 60 ft LOA | 0.2 | n/a | 247 | Jan 1-Jun 10 | 126
|  |  |  | Jun 10-Dec 31 | 121
Pot catcher/processor | 1.5 | n/a | 1,850 | Jan 1-Jun 10 | 943
|  |  |  | Sept 1-Dec 31 | 906
Pot catcher vessel ≥ 60 ft LOA | 8.4 | n/a | 10,359 | Jan 1-Jun 10 | 5,283
|  |  |  | Sept 1-Dec 31 | 5,076
Catcher vessel < 60 ft LOA using hook-and-line or pot gear | 2.0 | n/a | 2,467 | n/a | n/a
Trawl catcher vessel | 22.1 | 27,400 | n/a | Jan 20-Apr 1 | 20,276
|  |  |  | Apr 1-Jun 10 | 3,014
|  |  |  | Jun 10-Nov 1 | 4,110
AFA trawl catcher/processor | 2.3 | 2,852 | n/a | Jan 20-Apr 1 | 2,139
|  |  |  | Apr 1-Jun 10 | 713
|  |  |  | Jun 10-Nov 1 |
Amendment 80 | 13.4 | 16,614 | n/a | Jan 20-Apr 1 | 12,460
|  |  |  | Apr 1-Jun 10 | 4,153
|  |  |  | Jun 10-Dec 31 |
Jig | 1.4 | 1,736 | n/a | Jan 1-Apr 30 | 1,041
|  |  |  | Apr 30-Aug 31 | 347
|  |  |  | Aug 31-Dec 31 | 347
¹ The gear shares and seasonal allowances for BSAI Pacific cod TAC are based on the sum of the BS and AI Pacific cod TACs, after the subtraction of CDQ. If the TAC for Pacific cod in either the AI or BS is reached, then directed fishing for Pacific cod in that subarea will be prohibited, even if a BSAI allowance remains.
² The ICA for the hook-and-line and pot sectors will be deducted from the aggregate portion of Pacific cod TAC allocated to the hook-and-line and pot sectors. The Regional Administrator approves an ICA of 400 mt for 2020 based on anticipated incidental catch in these fisheries.
Note: Seasonal or sector apportionments may not total precisely due to rounding.

Table 9a—2019 BSAI A-Season Pacific Cod Allocations and Limits if Requirements in § 679.20(A)(7)(VIII) Are Met
2019 Allocations and limits under Aleutian Islands CV Harvest Set-Aside | Amount (mt)
AI non-CDQ TAC | 12,693
AI ICA | 2,500
AI DFA | 10,193
AI CV Harvest Set-Aside ¹ | 5,000
AI Unrestricted Fishery ² | 5,193
BSAI Trawl CV A-Season Allocation | 26,388
BSAI Trawl CV A-Season Allocation minus Sector Limitation ³ | 21,388
BS Trawl CV A-Season Sector Limitation | 5,000
¹ Prior to March 15, 2019, only catcher vessels that deliver their catch of AI Pacific cod to AI shoreplants for processing may directed fish for that portion of the AI Pacific cod non-CDQ DFA that is specified as the AI CV Harvest Set-Aside, unless lifted because the requirements pursuant to § 679.20(a)(7)(viii)(E) were not met.
² Prior to March 15, 2019, vessels otherwise authorized to directed fish for Pacific cod in the AI may directed fish for that portion of the AI Pacific cod non-CDQ DFA that is specified as the AI Unrestricted Fishery.
³ This is the amount of the BSAI trawl CV A-season allocation that may be harvested in the Bering Sea prior to March 21, 2019, unless the BS Trawl CV A-Season Sector Limitation is suspended for the remainder of the fishing year because the requirements pursuant to § 679.20(a)(7)(viii)(E) were not met.

Table 9b—2020 BSAI A-Season Pacific Cod Allocations and Limits if Requirements in § 679.20(A)(7)(VIII) Are Met
2020 Allocations and limits under Aleutian Islands CV Harvest Set-Aside | Amount (mt)
AI non-CDQ TAC | 12,693
AI ICA | 2,500
AI DFA | 10,193
AI CV Harvest Set-Aside ¹ | 5,000
AI Unrestricted Fishery ² | 5,193
BSAI Trawl CV A-Season Allocation | 20,493
BSAI Trawl CV A-Season Allocation minus Sector Limitation ³ | 15,493
BS Trawl CV A-Season Sector Limitation | 5,000
¹ Prior to March 15, 2020, only catcher vessels that deliver their catch of AI Pacific cod to AI shoreplants for processing may directed fish for that portion of the AI Pacific cod non-CDQ DFA that is specified as the AI CV Harvest Set-Aside, unless lifted because the requirements pursuant to § 679.20(a)(7)(viii)(E) were not met.
² Prior to March 15, 2020, vessels otherwise authorized to directed fish for Pacific cod in the AI may directed fish for that portion of the AI Pacific cod non-CDQ DFA that is specified as the AI Unrestricted Fishery.
³ This is the amount of the BSAI trawl CV A-season allocation that may be harvested in the Bering Sea prior to March 21, 2020, unless the BS Trawl CV A-Season Sector Limitation is suspended for the remainder of the fishing year because the requirements pursuant to § 679.20(a)(7)(viii)(E) were not met.

Sablefish Gear Allocation

Section 679.20(a)(4)(iii) and (iv) require allocation of the sablefish TAC for the Bering Sea and Aleutian Islands subareas between trawl gear and hook-and-line or pot gear sectors. Gear allocations of the TAC for the BS are 50 percent for trawl gear and 50 percent for hook-and-line or pot gear. Gear allocations of the TAC for the AI are 25 percent for trawl gear and 75 percent for hook-and-line or pot gear. Section 679.20(b)(1)(ii)(B) requires that NMFS apportions 20 percent of the hook-and-line or pot gear allocation of sablefish to the CDQ reserve for each subarea. Also, § 679.20(b)(1)(ii)(D)(1) requires that 7.5 percent of the trawl gear allocation of sablefish from the non-specified reserves, established under § 679.20(b)(1)(i), be assigned to the CDQ reserve.

The Council recommended that only trawl sablefish TAC be established biennially. The harvest specifications for the hook-and-line gear or pot gear sablefish Individual Fishing Quota (IFQ) fisheries are limited to the 2019 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 10 lists the 2019 and 2020 gear allocations of the sablefish TAC and CDQ reserve amounts.

Table 10—Final 2019 and 2020 Gear Shares and CDQ Reserve of BSAI Sablefish TACs
[Amounts are in metric tons]
Subarea and gear | Percent of TAC | 2019 Share of TAC | 2019 ITAC | 2019 CDQ reserve | 2020 Share of TAC | 2020 ITAC | 2020 CDQ reserve
Bering Sea
Trawl ¹ | 50 | 745 | 633 | 56 | 997 | 847 | 75
Hook-and-line/pot gear ² | 50 | 745 | 596 | 149 | n/a | n/a | n/a
Total | 100 | 1,489 | 1,228 | 205 | 997 | 847 | 75
Aleutian Islands
Trawl ¹ | 25 | 502 | 427 | 38 | 672 | 571 | 50
Hook-and-line/pot gear ² | 75 | 1,506 | 1,205 | 301 | n/a | n/a | n/a
Total | 100 | 2,008 | 1,632 | 339 | 672 | 571 | 50
¹ Except for the sablefish hook-and-line and pot gear allocation, 15 percent of TAC is apportioned to the non-specific reserve (§ 679.20(b)(1)(i)). The ITAC is the remainder of the TAC after subtracting these reserves.
² For the portion of the sablefish TAC allocated to vessels using hook-and-line or pot gear, 20 percent of the allocated TAC is reserved for use by CDQ participants (§ 679.20(b)(1)(ii)(B)). The Council recommended that specifications for the hook-and-line gear sablefish IFQ fisheries be limited to one year.
Note: Sector apportionments may not total precisely due to rounding.

Allocation of the Aleutian Islands Pacific Ocean Perch, and BSAI Flathead Sole, Rock Sole, and Yellowfin Sole TACs

Section 679.20(a)(10)(i) and (ii) require that NMFS allocate Aleutian Islands Pacific ocean perch, and BSAI flathead sole, rock sole, and yellowfin sole ITACs between the Amendment 80 sector and the BSAI trawl limited access sector, after subtracting 10.7 percent for the CDQ reserves and ICAs for the BSAI trawl limited access sector and vessels using non-trawl gear. The allocation of the ITACs for Aleutian Islands Pacific ocean perch, and BSAI flathead sole, rock sole, and yellowfin sole to the Amendment 80 sector are established in accordance with Tables 33 and 34 to 50 CFR part 679 and § 679.91.

One Amendment 80 cooperative has formed for the 2019 fishing year. Because all Amendment 80 vessels are part of the sole Amendment 80 cooperative, no allocation to the Amendment 80 limited access sector is required for 2019. The 2020 allocations for Amendment 80 species between Amendment 80 cooperatives and the Amendment 80 limited access sector will not be known until eligible participants apply for participation in the program by November 1, 2019. Tables 11 and 12 list the 2019 and 2020 allocations of the Aleutian Islands Pacific ocean perch, and BSAI flathead sole, rock sole, and yellowfin sole TACs.

Table 11—Final 2019 Community Development Quota (CDQ) Reserves, Incidental Catch Amounts (ICAs), and Amendment 80 Allocations of the Aleutian Islands Pacific Ocean Perch, and BSAI Flathead Sole, Rock Sole, and Yellowfin Sole TACs
[Amounts are in metric tons]
Sector | Pacific ocean perch: Eastern Aleutian District | Pacific ocean perch: Central Aleutian District | Pacific ocean perch: Western Aleutian District | Flathead sole: BSAI | Rock sole: BSAI | Yellowfin sole: BSAI
TAC | 11,009 | 8,385 | 10,000 | 14,500 | 47,100 | 154,000
CDQ | 1,178 | 897 | 1,070 | 1,552 | 5,040 | 16,478
ICA | 100 | 60 | 10 | 3,000 | 6,000 | 4,000
BSAI trawl limited access | 973 | 743 | 178 |  |  | 18,351
Amendment 80 | 8,758 | 6,685 | 8,742 | 9,949 | 36,060 | 115,171
Note: Sector apportionments may not total precisely due to rounding.

Table 12—Final 2020 Community Development Quota (CDQ) Reserves, Incidental Catch Amounts (ICAS), and Amendment 80 Allocations of the Aleutian Islands Pacific Ocean Perch, and BSAI Flathead Sole, Rock Sole, and Yellowfin Sole Tacs
[Amounts are in metric tons]
Sector | Pacific ocean perch: Eastern Aleutian District | Pacific ocean perch: Central Aleutian District | Pacific ocean perch: Western Aleutian District | Flathead sole: BSAI | Rock sole: BSAI | Yellowfin sole: BSAI
TAC | 11,146 | 8,205 | 10,000 | 14,500 | 57,100 | 166,425
CDQ | 1,193 | 878 | 1,070 | 1,552 | 6,110 | 17,807
ICA | 100 | 60 | 10 | 3,000 | 6,000 | 4,000
BSAI trawl limited access | 985 | 727 | 178 |  |  | 22,789
Amendment 80¹ | 8,868 | 6,540 | 8,742 | 9,949 | 44,990 | 121,828
¹ The 2020 allocations for Amendment 80 species between Amendment 80 cooperatives and the Amendment 80 limited access sector will not be known until eligible participants apply for participation in the program by November 1, 2019.
Note: Sector apportionments may not total precisely due to rounding.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from achieving, on a continuing basis, the optimum yield in the BSAI groundfish fisheries. NMFS, after consultation with the Council, may set the ABC reserve at or below the ABC surplus for each species, thus maintaining the TAC below ABC limits. An amount equal to 10.7 percent of the ABC reserves will be allocated as CDQ ABC reserves for flathead sole, rock sole, and yellowfin sole. Section 679.31(b)(4) establishes the annual allocations of CDQ ABC reserves among the CDQ groups. The Amendment 80 ABC reserves shall be the ABC reserves minus the CDQ ABC reserves. Section 679.91(i)(2) establishes each Amendment 80 cooperative ABC reserve to be the ratio of each cooperatives' quota share units and the total Amendment 80 quota share units, multiplied by the Amendment 80 ABC reserve for each respective species. Table 13 lists the 2019 and 2020 ABC surplus and ABC reserves for BSAI flathead sole, rock sole, and yellowfin sole.

Table 13—Final 2019 and 2020 ABC Surplus, ABC Reserves, Community Development Quota (CDQ) ABC Reserves, and Amendment 80 ABC Reserves in the BSAI for Flathead Sole, Rock Sole, and Yellowfin Sole
[Amounts are in metric tons]
Sector | 2019 Flathead sole | 2019 Rock sole | 2019 Yellowfin sole | 2020 ¹ Flathead sole | 2020 ¹ Rock sole | 2020 ¹ Yellowfin sole
ABC | 66,625 | 118,900 | 263,200 | 68,448 | 143,700 | 257,800
TAC | 14,500 | 47,100 | 154,000 | 14,500 | 57,100 | 166,425
ABC surplus | 52,125 | 71,800 | 109,200 | 53,948 | 86,600 | 91,375
ABC reserve | 52,125 | 71,800 | 109,200 | 53,948 | 86,600 | 91,375
CDQ ABC reserve | 5,577 | 7,683 | 11,684 | 5,772 | 9,266 | 9,777
Amendment 80 ABC reserve | 46,548 | 64,117 | 97,516 | 48,176 | 77,334 | 81,598
¹ The 2020 allocations for Amendment 80 species between Amendment 80 cooperatives and the Amendment 80 limited access sector will not be known until eligible participants apply for participation in the program by November 1, 2019.

PSC Limits for Halibut, Salmon, Crab, and Herring

Section 679.21(b), (e), (f), and (g) sets forth the BSAI PSC limits. Pursuant to § 679.21(b)(1), the annual BSAI halibut PSC limits total 3,515 mt. Section 679.21(b)(1) allocates 315 mt of the halibut PSC limit as the PSQ reserve for use by the groundfish CDQ program, 1,745 mt of the halibut PSC limit for the Amendment 80 sector, 745 mt of the halibut PSC limit for the BSAI trawl limited access sector, and 710 mt of the halibut PSC limit for the BSAI non-trawl sector.

Section 679.21(b)(1)(iii)(A) and (B) authorizes apportionment of the BSAI non-trawl halibut PSC limit into PSC allowances among six fishery categories in Table 17, and § 679.21(b)(1)(ii)(A) and (B), (e)(3)(i)(B), and (e)(3)(iv) requires apportionment of the trawl PSC limits in Tables 15 and 16 into PSC allowances among seven fishery categories.

Pursuant to Section 3.6 of the FMP, the Council recommends, and NMFS agrees, that certain specified non-trawl fisheries be exempt from the halibut PSC limit. As in past years, after consultation with the Council, NMFS exempts pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ program requires that legal-size halibut be retained by vessels using hook-and-line gear if a halibut IFQ permit holder or a hired master is aboard and is holding unused halibut IFQ for that vessel category and the IFQ regulatory area in which the vessel is operating (§ 679.7(f)(11)).

The 2018 total groundfish catch for the pot gear fishery in the BSAI was 28,662 mt, with an associated halibut bycatch mortality of 20 mt. The 2018 jig gear fishery harvested about 56 mt of groundfish. Most vessels in the jig gear fleet are exempt from observer coverage requirements. As a result, observer data are not available on halibut bycatch in the jig gear fishery. As mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on past bycatch performance, on whether Chinook salmon bycatch incentive plan agreements (IPAs) are formed, and on whether NMFS determines it is a low Chinook salmon abundance year. NMFS will determine that it is a low Chinook salmon abundance year when abundance of Chinook salmon in western Alaska is less than or equal to 250,000 Chinook salmon. The State of Alaska provides to NMFS an estimate of Chinook salmon abundance using the 3-System Index for western Alaska based on the Kuskokwim, Unalakleet, and Upper Yukon aggregate stock grouping.

If an AFA sector participates in an approved IPA and has not exceeded its performance standard under § 679.21(f)(6), and if it is not a low Chinook salmon abundance year, NMFS will allocate a portion of the 60,000 Chinook salmon PSC limit to that sector as specified in § 679.21(f)(3)(iii)(A). If no IPA is approved, or if the sector has exceeded its performance standard under § 679.21(f)(6), and if it is not a low abundance year, NMFS will allocate a portion of the 47,591 Chinook salmon PSC limit to that sector as specified in § 679.21(f)(3)(iii)(C). If an AFA sector participates in an approved IPA and has not exceeded its performance standard under § 679.21(f)(6), in a low abundance year, NMFS will allocate a portion of the 45,000 Chinook salmon PSC limit to that sector as specified in § 679.21(f)(3)(iii)(B). If no IPA is approved, or if the sector has exceeded its performance standard under § 679.21(f)(6), in a low abundance year, NMFS will allocate a portion of the 33,318 Chinook salmon PSC limit to that sector as specified in § 679.21(f)(3)(iii)(D).

NMFS has determined that 2018 was a low Chinook salmon abundance year, based on the State's estimate that Chinook salmon abundance in western Alaska is less than 250,000 Chinook salmon. Therefore, in 2019, the Chinook salmon PSC limit is 45,000 Chinook salmon, allocated to each sector as specified in § 679.21(f)(3)(iii)(B). The AFA sector Chinook salmon allocations are also seasonally apportioned with 70 percent of the allocation for the A season pollock fishery, and 30 percent of the allocation for the B season pollock fishery (§§ 679.21(f)(3)(i) and 679.23(e)(2)). In 2019, the Chinook salmon bycatch performance standard under § 679.21(f)(6) is 33,318 Chinook salmon, allocated to each sector as specified in § 679.21(f)(3)(iii)(D).

NMFS publishes the approved IPAs, allocations, and reports at https://alaskafisheries.noaa.gov/sustainablefisheries/bycatch/default.htm.

Section 679.21(g)(2)(i) specifies 700 fish as the 2019 and 2020 Chinook salmon PSC limit for the AI pollock fishery. Section 679.21(g)(2)(ii) allocates 7.5 percent, or 53 Chinook salmon, as the AI PSQ reserve for the CDQ Program, and allocates the remaining 647 Chinook salmon to the non-CDQ fisheries.

Section 679.21(f)(14)(i) specifies 42,000 fish as the 2019 and 2020 non-Chinook salmon PSC limit for vessels using trawl gear from August 15 through October 14 in the Catcher Vessel Operational Area (CVOA). Section 679.21(f)(14)(ii) allocates 10.7 percent, or 4,494 non-Chinook salmon, in the CVOA as the PSQ reserve for the CDQ Program, and allocates the remaining 37,506 non-Chinook salmon in the CVOA to the non-CDQ fisheries.

PSC limits for crab and herring are specified annually based on abundance and spawning biomass. Section 679.21(e)(3)(i)(A)(1) allocates 10.7 percent from each trawl gear PSC limit specified for crab as a PSQ reserve for use by the groundfish CDQ program.

Based on 2018 survey data, the red king crab mature female abundance is estimated at 13.1 million red king crabs, and the effective spawning biomass is estimated at 33,275 million lbs (15,093 mt). Based on the criteria set out at § 679.21(e)(1)(i), the 2019 and 2020 PSC limit of red king crab in Zone 1 for trawl gear is 97,000 animals. This limit derives from the mature female abundance estimate of more than 8.4 million mature red king crab and the effective spawning biomass estimate of more than 14.5 million lbs (6,577 mt) but less than 55 million lbs (24,948 mt).

Section 679.21(e)(3)(ii)(B)(2) establishes criteria under which NMFS must specify an annual red king crab bycatch limit for the Red King Crab Savings Subarea (RKCSS). The regulations limit the RKCSS red king crab bycatch limit to 25 percent of the red king crab PSC limit, based on the need to optimize the groundfish harvest relative to red king crab bycatch. In December 2018, the Council recommended and NMFS concurs that the red king crab bycatch limit be equal to 25 percent of the red king crab PSC limit within the RKCSS (Table 15).

Based on 2018 survey data, Tanner crab (Chionoecetes bairdi) abundance is estimated at 1,238 million animals. Pursuant to criteria set out at § 679.21(e)(1)(ii), the calculated 2019 and 2020 C. bairdi crab PSC limit for trawl gear is 980,000 animals in Zone 1, and 2,970,000 animals in Zone 2. The limit in Zone 1 is based on the abundance of C. bairdi estimated at 1,238 million animals, which is greater than 400 million animals. The limit in Zone 2 is based on the abundance of C. bairdi estimated at 1,238 million animals, which is greater than 400 million animals.

Pursuant to § 679.21(e)(1)(iii), the PSC limit for trawl gear for snow crab (C. opilio) is based on total abundance as indicated by the NMFS annual bottom trawl survey. The C. opilio crab PSC limit in the C. opilio bycatch limitation zone (COBLZ) is set at 0.1133 percent of the Bering Sea abundance index minus 150,000 crabs. Based on the 2018 survey estimate of 10.65 billion animals, the calculated C. opilio crab PSC limit is 11,916,450 animals, which is above the minimum PSC limit of 4.5 million and below the maximum PSC limit of 13 million animals.

Pursuant to § 679.21(e)(1)(v), the PSC limit of Pacific herring caught while conducting any trawl operation for BSAI groundfish is 1 percent of the annual eastern Bering Sea herring biomass. The best estimate of 2019 and 2020 herring biomass is 254,709 mt. This amount was developed by the Alaska Department of Fish and Game based on biomass for spawning aggregations. Therefore, the herring PSC limit for 2019 and 2020 is 2,547 mt for all trawl gear as listed in Tables 14 and 15.

Section 679.21(e)(3)(i)(A) requires that PSQ reserves be subtracted from the total trawl gear crab PSC limits. The crab and halibut PSC limits apportioned to the Amendment 80 and BSAI trawl limited access sectors are listed in Table 35 to 50 CFR part 679. The resulting 2019 and 2020 allocations of PSC limit to CDQ PSQ reserves, the Amendment 80 sector, and the BSAI trawl limited access sector are listed in Table 14. Pursuant to §§ 679.21(b)(1)(i), 679.21(e)(3)(vi), and 679.91(d) through (f), crab and halibut trawl PSC limits assigned to the Amendment 80 sector are then further allocated to Amendment 80 cooperatives as cooperative quota. Crab and halibut PSC cooperative quota assigned to Amendment 80 cooperatives is not allocated to specific fishery categories. In 2019, there are no vessels in the Amendment 80 limited access sector and one Amendment 80 cooperative. The 2020 PSC allocations between Amendment 80 cooperatives and the Amendment 80 limited access sector will not be known until eligible participants apply for participation in the program by November 1, 2019. Section 679.21(e)(3)(i)(B) requires that NMFS apportion each trawl PSC limit for crab and herring not assigned to Amendment 80 cooperatives into PSC bycatch allowances for seven specified fishery categories in § 679.21(e)(3)(iv).

Section 679.21(b)(2) and (e)(5) authorizes NMFS, after consulting with the Council, to establish seasonal apportionments of halibut and crab PSC amounts for the BSAI trawl limited access and non-trawl sectors in order to maximize the ability of the fleet to harvest the available groundfish TAC and to minimize bycatch. The factors to be considered are (1) seasonal distribution of prohibited species, (2) seasonal distribution of target groundfish species relative to prohibited species distribution, (3) PSC bycatch needs on a seasonal basis relevant to prohibited species biomass and expected catches of target groundfish species, (4) expected variations in bycatch rates throughout the year, (5) expected changes in directed groundfish fishing seasons, (6) expected start of fishing effort, and (7) economic effects of establishing seasonal prohibited species apportionments on segments of the target groundfish industry. Based on this criteria, the Council recommended and NMFS approves the seasonal PSC apportionments in Tables 16 and 17 to maximize harvest among gear types, fisheries, and seasons while minimizing bycatch of PSC.

Table 14—Final 2019 and 2020 Apportionment of Prohibited Species Catch Allowances to Non-Trawl Gear, the CDQ Program, Amendment 80, and the BSAI Trawl Limited Access Sectors
PSC species and area ¹ | Total PSC | Non-trawl PSC | CDQ PSQ reserve ² | Trawl PSC remaining after CDQ PSQ | Amendment 80 sector ³ | BSAI trawl limited access fishery
Halibut mortality (mt) BSAI | 3,515 | 710 | 315 | n/a | 1,745 | 745
Herring (mt) BSAI | 2,547 | n/a | n/a | n/a | n/a | n/a
Red king crab (animals) Zone 1 | 97,000 | n/a | 10,379 | 86,621 | 43,293 | 26,489
C. opilio (animals) COBLZ | 11,916,450 | n/a | 1,275,060 | 10,641,390 | 5,230,243 | 3,420,143
C. bairdi crab (animals) Zone 1 | 980,000 | n/a | 104,860 | 875,140 | 368,521 | 411,228
C. bairdi crab (animals) Zone 2 | 2,970,000 | n/a | 317,790 | 2,652,210 | 627,778 | 1,241,500
¹ Refer to § 679.2 for definitions of zones.
² The PSQ reserve for crab species is 10.7 percent of each crab PSC limit.
³ The Amendment 80 program reduced apportionment of the trawl PSC limits for crab below the total PSC limit. These reductions are not apportioned to other gear types or sectors.

Table 15-Final 2019 and 2020 Herring and Red King Crab Savings Subarea Prohibited Species Catch Allowances for All Trawl Sectors
Fishery categories | Herring (mt) BSAI | Red king crab (animals) Zone 1
Yellowfin sole | 111 | n/a
Rock sole/flathead sole/other flatfish ¹ | 54 | n/a
Greenland turbot/arrowtooth flounder/Kamchatka flounder/sablefish | 7 | n/a
Rockfish | 7 | n/a
Pacific cod | 13 | n/a
Midwater trawl pollock | 2,313 | n/a
Pollock/Atka mackerel/other species ² ³ | 42 | n/a
Red king crab savings subarea non-pelagic trawl gear ⁴ | n/a | 24,250
Total trawl PSC | 2,547 | 97,000
¹ “Other flatfish” for PSC monitoring includes all flatfish species, except for halibut (a prohibited species), Alaska plaice, arrowtooth flounder, flathead sole, Greenland turbot, Kamchatka flounder, rock sole, and yellowfin sole.
² Pollock other than midwater trawl pollock, Atka mackerel, and “other species” fishery category.
³ “Other species” for PSC monitoring includes skates, sculpins, sharks, and octopuses.
⁴ In December 2018, the Council recommended that the red king crab bycatch limit for non-pelagic trawl fisheries within the RKCSS be limited to 25 percent of the red king crab PSC allowance (see § 679.21(e)(3)(ii)(B)(2)).
Note: Species apportionments may not total precisely due to rounding.

Table 16—FINAL 2019 and 2020 Prohibited Species Bycatch Allowances for the BSAI Trawl Limited Access Sector
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 150 | 23,338 | 3,224,126 | 346,228 | 1,185,500
Rock sole/flathead sole/other flatfish ² |  |  |  |  |
Greenland turbot/arrowtooth flounder/Kamchatka flounder/sablefish |  |  |  |  |
Rockfish April 15-December 31 | 4 |  | 5,326 |  | 1,000
Pacific cod | 391 | 2,954 | 137,426 | 60,000 | 49,999
Pollock/Atka mackerel/other species ³ | 200 | 197 | 53,265 | 5,000 | 5,000
Total BSAI trawl limited access PSC | 745 | 26,489 | 3,420,143 | 411,228 | 1,241,500
¹ Refer to § 679.2 for definitions of areas.
² “Other flatfish” for PSC monitoring includes all flatfish species, except for halibut (a prohibited species), Alaska plaice, arrowtooth flounder, flathead sole, Greenland turbot, Kamchatka flounder, rock sole, and yellowfin sole.
³ “Other species” for PSC monitoring includes skates, sculpins, sharks, and octopuses.
Note: Seasonal or sector apportionments may not total precisely due to rounding.

Table 17-Final 2019 and 2020 Halibut Prohibited Species Bycatch Allowances for Non-Trawl Fisheries
Halibut mortality (mt) BSAI: Non-trawl fisheries | Halibut mortality (mt) BSAI: Seasons | Halibut mortality (mt) BSAI: Catcher/ processor | Halibut mortality (mt) BSAI: Catcher vessel | Halibut mortality (mt) BSAI: All non-trawl
Pacific cod | Total Pacific cod | 648 | 13 | 661
| January 1-June 10 | 388 | 9 | n/a
| June 10-August 15 | 162 | 2 | n/a
| August 15-December 31 | 98 | 2 | n/a
Non-Pacific cod non-trawl-Total | May 1-December 31 | n/a | n/a | 49
Groundfish pot and jig | n/a | n/a | n/a | Exempt
Sablefish hook-and-line | n/a | n/a | n/a | Exempt
Total for all non-trawl PSC | n/a | n/a | n/a | 710
Note: Seasonal or sector apportionments may not total precisely due to rounding.

Estimates of Halibut Biomass and Stock Condition

The International Pacific Halibut Commission (IPHC) annually assesses the abundance and potential yield of the Pacific halibut stock using all available data from the commercial and sport fisheries, other removals, and scientific surveys. Additional information on the Pacific halibut stock assessment may be found in the IPHC's 2018 Pacific halibut stock assessment (December 2018), available on the IPHC website at www.iphc.int. The IPHC considered the 2018 Pacific halibut stock assessment at its January 2019 annual meeting when it set the 2019 commercial halibut fishery catch limits.

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observers' estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual BSAI stock assessment process. The DMR methodology and findings are included as an appendix to the annual BSAI groundfish SAFE report.

In 2016, the DMR estimation methodology underwent revisions per the Council's directive. An interagency halibut working group (IPHC, Council, and NMFS staff) developed improved estimation methods that have undergone review by the Plan Team, SSC, and the Council. A summary of the revised methodology is included in the BSAI proposed 2017 and 2018 harvest specifications (81 FR 87863, December 6, 2016), and the comprehensive discussion of the working group's statistical methodology is available from the Council (see ADDRESSES). The DMR working group's revised methodology is intended to improve estimation accuracy, transparency, and transferability in the methodology used for calculating DMRs. The working group will continue to consider improvements to the methodology used to calculate halibut mortality, including potential changes to the reference period (the period of data used for calculating the DMRs). Future DMRs, including the 2020 DMRs, may change based on additional years of observer sampling, which could provide more recent and accurate data and which could improve the accuracy of estimation and progress on methodology. The new methodology will continue to ensure that NMFS is using DMRs that more accurately reflect halibut mortality, which will inform the different sectors of their estimated halibut mortality and allow specific sectors to respond with methods that could reduce mortality and, eventually, the DMR for that sector.

At the December 2018 meeting, the SSC, AP, and Council reviewed and concurred in the revised DMRs. The 2019 and 2020 DMRs use an updated 2-year reference period. Comparing the 2019 and 2020 final DMRs to the final DMRs from the 2018 and 2019 harvest specifications, the DMR for motherships and catcher/processors using non-pelagic trawl gear decreased to 78 percent from 84 percent, the DMR for catcher vessels using non-pelagic trawl gear decreased to 59 percent from 60 percent, the DMR for catcher vessels using hook-and-line gear decreased to 4 percent from 17 percent, and the DMR for pot gear increased to 19 percent from 9 percent. Table 18 lists the final 2019 and 2020 DMRs.

Table 18-2019 and 2020 Pacific Halibut Discard Mortality Rates (DMR) for the BSAI
Gear | Sector | Halibut discard mortality rate (percent)
Pelagic trawl | All | 100
Non-pelagic trawl | Mothership and catcher/processor | 78
Non-pelagic trawl | Catcher vessel | 59
Hook-and-line | Catcher/processor | 8
Hook-and-line | Catcher vessel | 4
Pot | All | 19

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea, regulatory area, or district (see § 679.20(d)(1)(iii)). Similarly, pursuant to § 679.21(b)(4) and (e)(7), if the Regional Administrator determines that a fishery category's bycatch allowance of halibut, red king crab, C. bairdi crab, or C. opilio crab for a specified area has been reached, the Regional Administrator will prohibit directed fishing for each species or species group in that fishery category in the area specified by regulation for the remainder of the fishing year.

Based on historic catch patterns and anticipated fishing activity, the Regional Administrator has determined that the groundfish allocation amounts in Table 19 will be necessary as incidental catch to support other anticipated groundfish fisheries for the 2019 and 2020 fishing years. Consequently, in accordance with § 679.20(d)(1)(i), the Regional Administrator establishes the DFA for the species and species groups in Table 19 as zero mt. Therefore, in accordance with § 679.20(d)(1)(iii), NMFS is prohibiting directed fishing for these sectors and species or species groups in the specified areas effective at 1200 hours, A.l.t., March 13, 2019, through 2400 hours, A.l.t., December 31, 2020. Also, for the BSAI trawl limited access sector, bycatch allowances of halibut, red king crab, C. bairdi crab, and C. opilio crab listed in Table 19 are insufficient to support directed fisheries. Therefore, in accordance with § 679.21(b)(4)(i) and (e)(7), NMFS is prohibiting directed fishing for these sectors, species, and fishery categories in the specified areas effective at 1200 hours, A.l.t., March 13, 2019, through 2400 hours, A.l.t., December 31, 2020.

Table 19—2019 and 2020 Directed Fishing Closures ¹
[Groundfish and halibut amounts are in metric tons. Crab amounts are in number of animals]
Area | Sector | Species | 2019 Incidental catch allowance | 2020 Incidental catch allowance
Bogoslof District | All | Pollock | 75 | 75
Aleutian Islands subarea | All | ICA pollock | 2,400 | 2,400
|  | “Other rockfish” ² | 388 | 388
Aleutian Islands subarea | Trawl non-CDQ | Sablefish | 427 | 571
Eastern Aleutian District/Bering Sea | Non-amendment 80, CDQ, and BSAI trawl limited access | ICA Atka mackerel | 800 | 800
Eastern Aleutian District/Bering Sea | All | Blackspotted/Rougheye rockfish | 75 | 75
Eastern Aleutian District | Non-amendment 80, CDQ, and BSAI trawl limited access | ICA Pacific ocean perch | 100 | 100
Central Aleutian District | Non-amendment 80, CDQ, and BSAI trawl limited access | ICA Atka mackerel | 75 | 75
|  | ICA Pacific ocean perch | 60 | 60
Western Aleutian District | Non-amendment 80, CDQ and BSAI trawl limited access | ICA Atka mackerel | 20 | 20
|  | ICA Pacific ocean perch | 10 | 10
Western and Central Aleutian Districts | All | Blackspotted/Rougheye rockfish | 204 | 204
Bering Sea subarea | Trawl non-CDQ | Sablefish | 633 | 847
Bering Sea subarea | All | Pacific ocean perch | 14,675 | 14,274
|  | “Other rockfish” ² | 234 | 234
|  | ICA pollock | 46,520 | 47,286
Bering Sea and Aleutian Islands | All | Northern rockfish | 5,525 | 5,525
|  | Shortraker rockfish | 304 | 150
|  | Skates | 22,100 | 22,950
|  | Sculpins | 4,250 | 4,250
|  | Sharks | 106 | 180
|  | Octopuses | 340 | 200
| Hook-and-line and pot gear | ICA Pacific cod | 400 | 400
| Non-amendment 80 and CDQ | ICA flathead sole | 3,000 | 3,000
|  | ICA rock sole | 5,000 | 5,000
| Non-amendment 80, CDQ, and BSAI trawl limited access | ICA yellowfin sole | 4,000 | 4,000
| BSAI trawl limited access | Rock sole/flathead sole/other flatfish—halibut mortality, red king crab Zone 1, C. opilio COBLZ, C. bairdi Zone 1 and 2
|  | Turbot/arrowtooth/sablefish—halibut mortality, red king crab Zone 1, C. opilio COBLZ, C. bairdi Zone 1 and 2
|  | Rockfish—red king crab Zone 1
¹ Maximum retainable amounts may be found in Table 11 to 50 CFR part 679.
² “Other rockfish” includes all Sebastes and Sebastolobus species except for Pacific ocean perch, northern rockfish, shortraker rockfish, and blackspotted/rougheye rockfish.

Closures implemented under the final 2018 and 2019 BSAI harvest specifications for groundfish (83 FR 8365, February 27, 2018) remain effective under authority of these final 2019 and 2020 harvest specifications and until the date specified in those notices. Closures are posted at the following websites: https://alaskafisheries.noaa.gov/cm/info_bulletins/ and https://alaskafisheries.noaa.gov/fisheries_reports/reports/. While these closures are in effect, the maximum retainable amounts at § 679.20(e) and (f) apply at any time during a fishing trip. These closures to directed fishing are in addition to closures and prohibitions found at 50 CFR part 679.

Listed AFA Catcher/Processor Sideboard Limits

Pursuant to § 679.64(a), the Regional Administrator is responsible for restricting the ability of listed AFA C/Ps to engage in directed fishing for groundfish species other than pollock to protect participants in other groundfish fisheries from adverse effects resulting from the AFA and from fishery cooperatives in the pollock directed fishery. These restrictions are set out as sideboard limits on catch. The basis for these sideboard limits is described in detail in the final rules implementing the major provisions of the AFA (67 FR 79692, December 30, 2002) and Amendment 80 (72 FR 52668, September 14, 2007). Table 20 lists the 2019 and 2020 AFA C/P groundfish sideboard limits. Section 679.64(a)(1)(v) exempts AFA catcher/processors from a yellowfin sole sideboard limit because the 2019 and 2020 aggregate ITAC of yellowfin sole assigned to the Amendment 80 sector and BSAI trawl limited access sector is greater than 125,000 mt.

All harvest of groundfish sideboard species by listed AFA C/Ps, whether as targeted catch or incidental catch, will be deducted from the sideboard limits in Table 20. However, groundfish sideboard species that are delivered to listed AFA C/Ps by CVs will not be deducted from the 2019 and 2020 sideboard limits for the listed AFA C/Ps.

Table 20—Final 2019 and 2020 Listed BSAI American Fisheries Act Catcher/Processor Groundfish Sideboard Limits
[Amounts are in metric tons]
Target species | Area/ season | 1995-1997: Retained catch | 1995-1997: Total catch | 1995-1997: Ratio of retained catch to total catch | 2019 ITAC available to trawl C/Ps ¹ | 2019 AFA C/P sideboard limit | 2020 ITAC available to trawl C/Ps ¹ | 2020 AFA C/P sideboard limit
Sablefish trawl | BS | 8 | 497 | 0.0160 | 633 | 10 | 847 | 14
| AI |  | 145 |  | 427 |  | 571
Atka mackerel | Central AI A season ² | n/a | n/a | 0.1150 | 6,425 | 739 | 11,116 | 1,278
| Central AI B season ² | n/a | n/a | 0.1150 | 6,425 | 739 | 11,116 | 1,278
| Western AI A season ² | n/a | n/a | 0.2000 | 8,748 | 1,750 | 6,173 | 1,235
| Western AI B season ² | n/a | n/a | 0.2000 | 8,748 | 1,750 | 6,173 | 1,235
Rock sole | BSAI | 6,317 | 169,362 | 0.0370 | 42,060 | 1,556 | 43,846 | 1,622
Greenland turbot | BS | 121 | 17,305 | 0.0070 | 4,356 | 30 | 4,356 | 30
| AI | 23 | 4,987 | 0.0050 | 144 | 1 | 144 | 1
Arrowtooth flounder | BSAI | 76 | 33,987 | 0.0020 | 6,800 | 14 | 6,800 | 14
Kamchatka flounder | BSAI | 76 | 33,987 | 0.0020 | 4,250 | 9 | 4,250 | 9
Flathead sole | BSAI | 1,925 | 52,755 | 0.0360 | 12,949 | 466 | 12,949 | 466
Alaska plaice | BSAI | 14 | 9,438 | 0.0010 | 15,300 | 15 | 15,300 | 15
Other flatfish | BSAI | 3,058 | 52,298 | 0.0580 | 5,525 | 320 | 5,525 | 320
Pacific ocean perch | BS | 12 | 4,879 | 0.0020 | 12,474 | 25 | 12,133 | 24
| Eastern AI | 125 | 6,179 | 0.0200 | 9,831 | 197 | 9,953 | 199
| Central AI | 3 | 5,698 | 0.0010 | 7,488 | 7 | 7,327 | 7
| Western AI | 54 | 13,598 | 0.0040 | 8,930 | 36 | 8,930 | 36
Northern rockfish | BSAI | 91 | 13,040 | 0.0070 | 5,525 | 39 | 5,525 | 39
Shortraker rockfish | BSAI | 50 | 2,811 | 0.0180 | 304 | 5 | 304 | 5
Blackspotted/Rougheye rockfish | BS/EAI | 50 | 2,811 | 0.0180 | 64 | 1 | 64 | 1
| CAI/WAI | 50 | 2,811 | 0.0180 | 173 | 3 | 173 | 3
Other rockfish | BS | 18 | 621 | 0.0290 | 234 | 7 | 234 | 7
| AI | 22 | 806 | 0.0270 | 388 | 10 | 388 | 10
Skates | BSAI | 553 | 68,672 | 0.0080 | 22,100 | 177 | 22,100 | 177
Sculpins | BSAI | 553 | 68,672 | 0.0080 | 4,250 | 34 | 4,250 | 34
Sharks | BSAI | 553 | 68,672 | 0.0080 | 106 | 1 | 106 | 1
Octopuses | BSAI | 553 | 68,672 | 0.0080 | 340 | 3 | 340 | 3
¹ Aleutian Islands Pacific ocean perch, and BSAI Atka mackerel, flathead sole, and rock sole are multiplied by the remainder of the TAC after the subtraction of the CDQ reserve under § 679.20(b)(1)(ii)(C).
² The seasonal apportionment of Atka mackerel for the BSAI trawl limited access sector is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
Notes: Section 679.64(a)(1)(v) exempts AFA catcher/processors from a yellowfin sole sideboard limit because the 2019 and 2020 aggregate ITAC of yellowfin sole assigned to the Amendment 80 sector and BSAI trawl limited access sector is greater than 125,000 mt.
On February 8, 2019, NMFS published a final rule (84 FR 2723) that modifies regulations for AFA Program participants subject to sideboard limits in the BSAI. The final rule establishes regulations to prohibit directed fishing for sideboard limits for specific groundfish species or species groups, rather than prohibiting directed fishing for AFA Program sideboard limits through the BSAI annual harvest specifications. Once the final rule is effective (effective March 11, 2019), NMFS will no longer publish in the annual BSAI harvest specifications the AFA Program sideboard limit amounts for groundfish species subject to the final rule, and the groundfish species subject to the final rule will be prohibited to directed fishing in regulation (84 FR 2723).

Section 679.64(a)(2) and Tables 40 and 41 of 50 CFR part 679 establish a formula for calculating PSC sideboard limits for halibut and crab caught by listed AFA C/Ps. The basis for these sideboard limits is described in detail in the final rules implementing the major provisions of the AFA (67 FR 79692, December 30, 2002) and Amendment 80 (72 FR 52668, September 14, 2007).

PSC species listed in Table 21 that are caught by listed AFA C/Ps participating in any groundfish fishery other than pollock will accrue against the 2019 and 2020 PSC sideboard limits for the listed AFA C/Ps. Section 679.21(b)(4)(iii), (e)(3)(v), and (e)(7) authorizes NMFS to close directed fishing for groundfish other than pollock for listed AFA C/Ps once a 2019 or 2020 PSC sideboard limit listed in Table 21 is reached.

Pursuant to § 679.21(b)(1)(ii)(C) and (e)(3)(ii)(C), halibut or crab PSC by listed AFA C/Ps while fishing for pollock will accrue against the PSC allowances annually specified for the pollock/Atka mackerel/“other species” fishery categories under § 679.21(b)(1)(ii)(B) and (e)(3)(iv).

Table 21—Final 2019 and 2020 BSAI AFA Listed Catcher/Processor Prohibited Species Sideboard Limits
PSC species and area ¹ | Ratio of PSC catch to total PSC | 2019 and 2020 PSC available to trawl vessels after subtraction of PSQ ² | 2019 and 2020 AFA catcher/ processor sideboard limit ²
Halibut mortality BSAI | n/a | n/a | 286
Red king crab Zone 1 | 0.007 | 86,621 | 606
C. opilio (COBLZ) | 0.153 | 10,641,390 | 1,628,133
C. bairdi Zone 1 | 0.140 | 875,140 | 122,520
C. bairdi Zone 2 | 0.050 | 2,652,210 | 132,611
¹ Refer to § 679.2 for definitions of areas.
² Halibut amounts are in metric tons of halibut mortality. Crab amounts are in numbers of animals.

AFA Catcher Vessel Sideboard Limits

Pursuant to § 679.64(b), the Regional Administrator is responsible for restricting the ability of AFA CVs to engage in directed fishing for groundfish species other than pollock to protect participants in other groundfish fisheries from adverse effects resulting from the AFA and from fishery cooperatives in the pollock directed fishery. Section 679.64(b)(3) and (4) establishes a formula for setting AFA CV groundfish and halibut and crab PSC sideboard limits for the BSAI. The basis for these sideboard limits is described in detail in the final rules implementing the major provisions of the AFA (67 FR 79692, December 30, 2002) and Amendment 80 (72 FR 52668, September 14, 2007). Section 679.64(b)(6) exempts AFA CVs from a yellowfin sole sideboard limit because the 2019 and 2020 aggregate ITAC of yellowfin sole assigned to the Amendment 80 sector and BSAI trawl limited access sector is greater than 125,000 mt. Tables 22 and 23 list the 2019 and 2020 AFA CV sideboard limits.

All catch of groundfish sideboard species made by non-exempt AFA CVs, whether as targeted catch or incidental catch, will be deducted from the 2019 and 2020 sideboard limits listed in Table 22.

Halibut and crab PSC limits listed in Table 23 that are caught by AFA CVs participating in any groundfish fishery for groundfish other than pollock will accrue against the 2019 and 2020 PSC sideboard limits for the AFA CVs. Section 679.21(b)(4)(iii), (e)(3)(v), and (e)(7) authorizes NMFS to close directed fishing for groundfish other than pollock for AFA CVs once a 2019 or 2020 PSC sideboard limit listed in Table 23 is reached. Pursuant to § 679.21(b)(1)(ii)(C) and (e)(3)(ii)(C), the halibut and crab PSC by AFA CVs while fishing for pollock in the BSAI will accrue against the PSC allowances annually specified for the pollock/Atka mackerel/“other species” fishery categories under § 679.21(b)(1)(ii)(B) and (e)(3)(iv).

Table 22—Final 2019 and 2020 American Fisheries Act Catcher Vessel BSAI Groundfish Sideboard Limits
[Amounts are in metric tons]
Species/gear | Fishery by area/season | Ratio of 1995-1997 AFA CV catch to 1995-1997 TAC | 2019 Initial TAC ¹ | 2019 AFA catcher vessel sideboard limits | 2020 Initial TAC ¹ | 2020 AFA catcher vessel sideboard limits
Pacific cod/Jig gear | BSAI |  | n/a |  | n/a |
Pacific cod/Hook-and-line CV≥60 feet LOA | BSAI Jan 1-Jun 10 | 0.0006 | 164 | 0 | 127 | 0
| BSAI Jun 10-Dec 31 | 0.0006 | 157 | 0 | 122 | 0
Pacific cod pot gear CV | BSAI Jan 1-Jun 10 | 0.0006 | 6,884 | 4 | 5,340 | 3
| BSAI Sept 1-Dec 31 | 0.0006 | 6,614 | 4 | 5,131 | 3
Pacific cod CV ≥ 60 feet LOA using hook-and-line or pot gear | BSAI | 0.0006 | 3,214 | 2 | 2,493 | 1
Pacific cod trawl gear CV | BSAI Jan 20-Apr 1 | 0.8609 | 26,388 | 22,717 | 20,493 | 17,642
| BSAI Apr 1-Jun 10 | 0.8609 | 3,923 | 3,377 | 3,046 | 2,622
| BSAI Jun 10-Nov 1 | 0.8609 | 5,349 | 4,605 | 4,154 | 3,576
Sablefish trawl gear | BS | 0.0906 | 633 | 57 | 847 | 77
| AI | 0.0645 | 427 | 28 | 571 | 37
Atka mackerel | Eastern AI/BS Jan 1-Jun 10 | 0.0032 | 10,703 | 34 | 9,908 | 32
| Eastern AI/BS Jun 10-Nov 1 | 0.0032 | 10,703 | 34 | 9,908 | 32
| Central AI Jan 1-Jun 10 | 0.0001 | 6,425 | 1 | 5,933 | 1
| Central AI Jun 10-Nov 1 | 0.0001 | 6,425 | 1 | 5,933 | 1
| Western AI Jan 1-Jun 10 |  | 8,748 |  | 8,098 |
| Western AI Jun 10-Nov 1 |  | 8,748 |  | 8,098 |
Rock sole | BSAI | 0.0341 | 42,060 | 1,434 | 50,990 | 1,739
Greenland turbot | BS | 0.0645 | 4,356 | 281 | 4,356 | 281
| AI | 0.0205 | 144 | 3 | 144 | 3
Arrowtooth flounder | BSAI | 0.0690 | 6,800 | 469 | 6,800 | 469
Kamchatka flounder | BSAI | 0.0690 | 4,250 | 293 | 4,250 | 293
Alaska plaice | BSAI | 0.0441 | 15,300 | 675 | 15,300 | 675
Other flatfish | BSAI | 0.0441 | 5,525 | 244 | 5,525 | 244
Flathead sole | BS | 0.0505 | 12,949 | 654 | 12,949 | 654
Pacific ocean perch | BS | 0.1000 | 12,474 | 1,247 | 12,133 | 1,213
| Eastern AI | 0.0077 | 9,831 | 76 | 9,953 | 77
| Central AI | 0.0025 | 7,488 | 19 | 7,327 | 18
| Western AI |  | 8,930 |  | 8,930 |
Northern rockfish | BSAI | 0.0084 | 5,525 | 46 | 5,525 | 46
Shortraker rockfish | BSAI | 0.0037 | 304 | 1 | 304 | 1
Blackspotted/Rougheye rockfish | BS/EAI | 0.0037 | 64 | 0 | 64 | 0
| CAI/WAI | 0.0037 | 173 | 1 | 173 | 1
Other rockfish | BS | 0.0048 | 234 | 1 | 234 | 1
| AI | 0.0095 | 388 | 4 | 388 | 4
Skates | BSAI | 0.0541 | 22,100 | 1,196 | 22,100 | 1,196
Sculpins | BSAI | 0.0541 | 4,250 | 230 | 4,250 | 230
Sharks | BSAI | 0.0541 | 106 | 6 | 106 | 6
Octopuses | BSAI | 0.0541 | 340 | 18 | 340 | 18
¹ Aleutians Islands Pacific ocean perch, and BSAI Atka mackerel, flathead sole, Pacific cod, and rock sole are multiplied by the remainder of the TAC of that species after the subtraction of the CDQ reserve under § 679.20(b)(1)(ii)(C).
Notes: Section 679.64(b)(6) exempts AFA catcher vessels from a yellowfin sole sideboard limit because the 2019 and 2020 aggregate ITAC of yellowfin sole assigned to the Amendment 80 sector and BSAI trawl limited access sector is greater than 125,000 mt.
On February 8, 2019, NMFS published a final rule (84 FR 2723) that modifies regulations for AFA Program participants subject to sideboard limits in the BSAI. The final rule establishes regulations to prohibit directed fishing for sideboard limits for specific groundfish species or species groups, rather than prohibiting directed fishing for AFA Program sideboard limits through the BSAI annual harvest specifications. Once the final rule is effective (effective March 11, 2019), NMFS will no longer publish in the annual BSAI harvest specifications the AFA Program sideboard limit amounts for groundfish species subject to the final rule, and the groundfish species subject to the final rule will be prohibited to directed fishing in regulation (84 FR 2723).

Table 23—Final 2019 and 2020 American Fisheries Act Catcher Vessel Prohibited Species Catch Sideboard Limits for the BSAI ¹
PSC species and area ¹ | Target fishery category ² | AFA catcher vessel PSC sideboard limit ratio | 2019 and 2020 PSC limit after subtraction of PSQ reserves ³ | 2019 and 2020 AFA catcher vessel PSC sideboard limit ³
Halibut | Pacific cod trawl | n/a | n/a | 887
| Pacific cod hook-and-line or pot | n/a | n/a | 2
| Yellowfin sole total | n/a | n/a | 101
| Rock sole/flathead sole/Alaska plaice/other flatfish ⁴ | n/a | n/a | 228
| Greenland turbot/arrowtooth/Kamchatka/sablefish | n/a | n/a |
| Rockfish | n/a | n/a | 2
| Pollock/Atka mackerel/other species ⁵ | n/a | n/a | 5
Red king crab Zone 1 | n/a | 0.2990 | 86,621 | 25,900
C. opilio COBLZ | n/a | 0.1680 | 10,641,390 | 1,787,754
C. bairdi Zone 1 | n/a | 0.3300 | 875,140 | 288,796
C. bairdi Zone 2 | n/a | 0.1860 | 2,652,210 | 493,311
¹ Refer to § 679.2 for definitions of areas.
² Target trawl fishery categories are defined at § 679.21(b)(1)(ii)(B) and (e)(3)(iv).
³ Halibut amounts are in metric tons of halibut mortality. Crab amounts are in numbers of animals.
⁴ “Other flatfish” for PSC monitoring includes all flatfish species, except for halibut (a prohibited species), Alaska plaice, arrowtooth flounder, flathead sole, Greenland turbot, Kamchatka flounder, rock sole, and yellowfin sole.
⁵ “Other species” for PSC monitoring includes skates, sculpins, sharks, and octopuses.

AFA Catcher/Processor and Catcher Vessel Sideboard Directed Fishing Closures

Based on historical catch patterns, the Regional Administrator has determined that many of the AFA C/P and CV sideboard limits listed in Tables 24 and 25 are necessary as incidental catch to support other anticipated groundfish fisheries for the 2019 and 2020 fishing years. In accordance with § 679.20(d)(1)(iv), the Regional Administrator establishes the sideboard limits listed in Tables 24 and 25 as DFAs. Because many of these DFAs will be reached before the end of the year in 2019 and 2020, the Regional Administrator has determined, in accordance with § 679.20(d)(1)(iii), that NMFS is prohibiting directed fishing by listed AFA C/Ps for the species in the specified areas set out in Table 24, and prohibiting directed fishing by non-exempt AFA CVs for the species in the specified areas set out in Table 25.

Table 24—Final 2019 and 2020 American Fisheries Act Listed Catcher/Processor Sideboard Directed Fishing Closures ¹
[Amounts are in metric tons]
Species | Area | Gear types | 2019 Sideboard limit | 2020 Sideboard limit
Sablefish trawl | BS | trawl | 10 | 14
| AI | trawl |  |
Rock sole | BSAI | all | 1,556 | 1,622
Greenland turbot | BS | all | 30 | 30
| AI | all | 1 | 1
Arrowtooth flounder | BSAI | all | 14 | 14
Kamchatka flounder | BSAI | all | 9 | 9
Alaska plaice | BSAI | all | 15 | 15
Other flatfish ² | BSAI | all | 320 | 320
Flathead sole | BSAI | all | 466 | 466
Pacific ocean perch | BS | all | 25 | 24
| Eastern AI | all | 197 | 199
| Central AI | all | 7 | 7
| Western AI | all | 36 | 36
Northern rockfish | BSAI | all | 39 | 39
Shortraker rockfish | BSAI | all | 5 | 5
Blackspotted/Rougheye rockfish | EBS/EAI | all | 1 | 1
| CAI/WAI | all | 3 | 3
Other rockfish ³ | BS | all | 7 | 7
| AI | all | 10 | 10
Skates | BSAI | all | 177 | 177
Sculpins | BSAI | all | 34 | 34
Sharks | BSAI | all | 1 | 1
Octopuses | BSAI | all | 3 | 3
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, shortraker rockfish, and blackspotted/rougheye rockfish.

Table 25-Final 2019 and 2020 American Fisheries Act Catcher Vessel Sideboard Directed Fishing Closures ¹
[Amounts are in metric tons]
Species | Area | Gear types | 2019 sideboard limit | 2020 sideboard limit
Pacific cod | BSAI | hook-and-line CV≥60 feet LOA | 0 | 0
| BSAI | pot CV≥60 feet LOA | 9 | 8
| BSAI | hook-and-line or pot CV≤60 feet LOA | 2 | 2
| BSAI | jig | 0 | 0
Sablefish | BS | trawl | 56 | 79
| AI | trawl | 27 | 38
Atka mackerel | Eastern AI/BS | all | 104 | 96
| Central AI | all | 2 | 2
| Western AI | all | 0 | 0
Greenland turbot | BS | all | 281 | 281
| AI | all | 3 | 3
Arrowtooth flounder | BSAI | all | 799 | 821
Kamchatka flounder | BSAI | all | 293 | 293
Alaska plaice | BSAI | all | 501 | 609
Other flatfish ² | BSAI | all | 150 | 150
Flathead sole | BSAI | all | 654 | 744
Rock sole | BSAI | all | 1,434 | 1,495
Pacific ocean perch | BS | all | 1008 | 977
| Eastern AI | all | 62 | 67
| Central AI | all | 17 | 17
| Western AI | all | 0 | 0
Northern rockfish | BSAI | all | 44 | 46
Shortraker rockfish | BSAI | all | 1 | 1
Blackspotted/Rougheye rockfish | BS/EAI | all | 0 | 0
| CAI/WAI | all | 1 | 1
Other rockfish ³ | BS | all | 1 | 1
| AI | all | 5 | 5
Skates | BSAI | all | 1,242 | 1,242
Sculpins | BSAI | all | 230 | 230
Sharks | BSAI | all | 10 | 10
Squids | BSAI | all | 390 | 390
Octopuses | BSAI | all | 14 | 11
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, shortraker rockfish, and blackspotted/rougheye rockfish.

Response to Comments

NMFS received no comments during the public comment period for the proposed BSAI groundfish harvest specifications. No changes were made to the final rule in response to the comment letters received.

Classification

NMFS has determined that these final harvest specifications are consistent with the FMP and with the Magnuson-Stevens Act and other applicable laws.

This action is authorized under 50 CFR 679.20 and is exempt from review under Executive Order 12866.

NMFS prepared an EIS for this action (see ADDRESSES) and made it available to the public on January 12, 2007 (72 FR 1512). On February 13, 2007, NMFS issued the Record of Decision (ROD) for the Final EIS. In February 2019, NMFS prepared a Supplemental Information Report (SIR) for this action. Copies of the Final EIS, ROD, and annual SIRs for this action are available from NMFS (see ADDRESSES). The Final EIS analyzes the environmental, social, and economic consequences of the groundfish harvest specifications and alternative harvest strategies on resources in the action area. Based on the analysis in the Final EIS, NMFS concluded that the preferred Alternative (Alternative 2) provides the best balance among relevant environmental, social, and economic considerations and allows for continued management of the groundfish fisheries based on the most recent, best scientific information.

The SIR evaluates the need to prepare a Supplemental EIS (SEIS) for the 2019 and 2020 groundfish harvest specifications. An SEIS should be prepared if (1) the agency makes substantial changes in the proposed action that are relevant to environmental concerns; or (2) significant new circumstances or information exist relevant to environmental concerns and bearing on the proposed action or its impacts (40 CFR 1502.9(c)(1)). After reviewing the information contained in the SIR and SAFE reports, the Regional Administrator has determined that (1) approval of the 2019 and 2020 harvest specifications, which were set according to the preferred harvest strategy in the EIS, does not constitute a substantial change in the action; and (2) there are no significant new circumstances or information relevant to environmental concerns and bearing on the action or its impacts. Additionally, the 2019 and 2020 harvest specifications will result in environmental, social, and economic impacts within the scope of those analyzed and disclosed in the EIS. Therefore, supplemental National Environmental Policy Act documentation is not necessary to implement the 2019 and 2020 harvest specifications.

Section 604 of the Regulatory Flexibility Act (RFA) (5 U.S.C. 604) requires that, when an agency promulgates a final rule under 5 U.S.C. 553, after being required by that section, or any other law, to publish a general notice of proposed rulemaking, the agency shall prepare a final regulatory flexibility analysis (FRFA). The following constitutes the FRFA prepared in the final action.

The required contents of a FRFA, as described in section 604, are: (1) A statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency which affect the impact on small entities was rejected.

A description of this action, its purpose, and its legal basis are included at the beginning of the preamble to this final rule and are not repeated here.

NMFS published the proposed rule on December 6, 2018 (83 FR 62815). NMFS prepared an Initial Regulatory Flexibility Analysis (IRFA) to accompany the proposed action, and included a summary in the proposed rule. The comment period closed on January 7, 2019. No comments were received on the IRFA or on the economic impacts of the rule more generally. The Chief Counsel for Advocacy of the Small Business Administration did not file any comments on the proposed rule.

The entities directly regulated by this action are those that harvest groundfish in the exclusive economic zone of the BSAI and in parallel fisheries within State waters. These include entities operating catcher vessels and catcher/processors within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide.

Using the most recent data available (2017), the estimated number of directly regulated small entities include approximately 170 catcher vessels, four catcher/processors, and six CDQ groups. Some of these vessels are members of AFA inshore pollock cooperatives, Gulf of Alaska rockfish cooperatives, or BSAI Crab Rationalization Program cooperatives, and, since under the RFA the aggregate gross receipts of all participating members of the cooperative must meet the “under $11 million” threshold, the cooperatives are considered to be large entities within the meaning of the RFA. Thus, the estimate of 170 catcher vessels may be an overstatement of the number of small entities. Average gross revenues in 2017 were $570,000 for small hook-and-line vessels, $1.37 million for small pot vessels, and $3.15 million for small trawl vessels. The average gross revenue for catcher/processors are not reported, due to confidentiality considerations.

This action does not modify recordkeeping or reporting requirements.

The significant alternatives were those considered as alternative harvest strategies when the Council selected its preferred harvest strategy (Alternative 2) in December 2006. These included the following:

• Alternative 1: Set TAC to produce fishing mortality rates, F, that are equal to maxFABC, unless the sum of the TAC is constrained by the OY established in the FMP. This is equivalent to setting TAC to produce harvest levels equal to the maximum permissible ABC, as constrained by OY. The term “maxFABC” refers to the maximum permissible value of FABC under Amendment 56 to the BSAI and Gulf of Alaska groundfish fishery management plans. Historically, the TAC has been set at or below the ABC; therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TAC would be set to produce harvest levels equal to the most recent 5-year average actual fishing mortality rates. For stocks with insufficient scientific information, TAC would be set equal to the most recent 5-year average actual catch. This alternative recognizes that for some stocks, catches may fall well below ABC, and recent average F may provide a better indicator of actual F than FABC does.

• Alternative 4: First, set TAC for rockfish species in Tier 3 at F75%; set TAC for rockfish species in Tier 5 at F=0.5M; and set spatially explicit TAC for shortraker and rougheye rockfish in the BSAI. Second, taking the rockfish TAC as calculated above, reduce all other TAC by a proportion that does not vary across species, so that the sum of all TAC, including rockfish TAC, is equal to the lower bound of the area OY (1.4 million mt in the BSAI). This alternative sets conservative and spatially explicit TAC for rockfish species that are long-lived and late to mature, and sets conservative TAC for the other groundfish species.

• Alternative 5: (No Action) Set TAC at zero.

Alternative 2 is the preferred alternative chosen by the Council: Set TACs that fall within the range of ABCs recommended through the Council harvest specifications process and TACs recommended by the Council. Under this scenario, F is set equal to a constant fraction of maxFABC. The recommended fractions of maxFABC may vary among species or stocks, based on other considerations unique to each. This is the method for determining TACs that has been used in the past.

Alternatives 1, 3, 4, and 5 do not meet the objectives of this action, and although Alternatives 1 and 3 may have a smaller adverse economic impact on small entities than the preferred alternative, Alternatives 4 and 5 likely would have a significant adverse economic impact on small entities. The Council rejected these alternatives as harvest strategies in 2006, and the Secretary of Commerce did so in 2007.

Alternative 1 would lead to TAC limits whose sum exceeds the fishery OY, which is set out in statute and the FMP. As shown in Table 1 and Table 2, the sum of ABCs in 2019 and 2020 would be 3,367,578 mt and 2,967,269 mt, respectively. Both of these are substantially in excess of the fishery OY for the BSAI. This result would be inconsistent with the objectives of this action, in that it would violate the Consolidated Appropriations Act of 2004, Public Law 108-199, Division B, section 803(c), and the FMP, which both set a 2.0 million mt maximum harvest for BSAI groundfish.

Alternative 3 selects harvest rates based on the most recent 5 years' worth of harvest rates (for species in Tiers 1 through 3) or based on the most recent 5 years' worth of harvests (for species in Tiers 4 through 6). This alternative is also inconsistent with the objectives of this action, as well as National Standard 2 of the Magnuson-Stevens Act (16 U.S.C. 1851(a)(2)), because it does not take into account the most recent biological information for this fishery. NMFS annually conducts at-sea stock surveys for different species, as well as statistical modeling, to estimate stock sizes and permissible harvest levels. Actual harvest rates or harvest amounts are a component of these estimates, but in and of themselves may not accurately portray stock sizes and conditions. Harvest rates are listed for each species category for each year in the SAFE report (see ADDRESSES).

Alternative 4 would lead to significantly lower harvests of all groundfish species to reduce TAC from the upper end of the OY range in the BSAI to its lower end of 1.4 million mt. This result would lead to significant reductions in harvests of species by small entities. While reductions of this size could be associated with offsetting price increases, the size of these increases is uncertain, and, assuming volume decreases would lead to price increases, it is unclear whether price increases would be sufficient to offset the volume decreases and to leave revenues unchanged for small entities. Thus, this alternative would have an adverse economic impact on small entities, compared to the preferred alternative.

Alternative 5, which sets all harvests equal to zero, may address conservation issues, but would have a significant adverse economic impact on small entities and would be inconsistent with achieving OY on a continuing basis, as mandated by the Magnuson-Stevens Act (16 U.S.C. 1851(a)(1)).

Impacts on marine mammals resulting from fishing activities conducted under this rule are discussed in the EIS (see ADDRESSES).

Pursuant to 5 U.S.C. 553(d)(3), the Assistant Administrator for Fisheries, NOAA, finds good cause to waive the 30-day delay in the date of effectiveness for this rule because delaying this rule is contrary to the public interest. The Plan Team review of the 2018 SAFE report occurred in November 2018, and the Council considered and recommended the final harvest specifications in December 2018. Accordingly, NMFS's review of the final 2019 and 2020 harvest specifications could not begin until after the December 2018 Council meeting, and after the public had time to comment on the proposed action.

If this rule's effectiveness is delayed, fisheries that might otherwise remain open under these rules may prematurely close based on the lower TACs established in the final 2018 and 2019 harvest specifications (83 FR 8365, February 27, 2018). If implemented immediately, this rule would allow these fisheries to continue fishing, because some of the new TACs implemented by this rule are higher than the TACs under which they are currently fishing.

In addition, immediate effectiveness of this action is required to provide consistent management and conservation of fishery resources based on the best available scientific information. This is particularly pertinent for those species that have lower 2019 ABCs and TACs than those established in the 2018 and 2019 harvest specifications (83 FR 8365, February 27, 2018). If implemented immediately, this rule would ensure that NMFS can properly manage those fisheries for which this rule sets lower 2019 ABCs and TACs, which are based on the most recent biological information on the condition of stocks, rather than managing species under the higher TACs set in the previous year's harvest specifications.

Certain fisheries, such as those for pollock and Pacific cod, are intensive, fast-paced fisheries. Other fisheries, such as those for flatfish, rockfish, skates, sculpins, sharks, and octopuses, are critical as directed fisheries and as incidental catch in other fisheries. U.S. fishing vessels have demonstrated the capacity to catch the TAC allocations in these fisheries. Any delay in allocating the final TAC limits in these fisheries would cause confusion in the industry and potential economic harm through unnecessary discards, thus undermining the intent of this rule. Predicting which fisheries may close is difficult because these fisheries are affected by several factors that cannot be predicted in advance, including fishing effort, weather, movement of fishery stocks, and market price. Furthermore, the closure of one fishery has a cascading effect on other fisheries, for example by freeing up fishing vessels, which would allow those vessels to move from closed fisheries to open ones and lead to an increase in the fishing capacity in those open fisheries, thereby causing those open fisheries to close at an accelerated pace.

Additionally, in fisheries subject to declining sideboards, delaying this rule's effectiveness could allow some vessels to inadvertently reach or exceed their new sideboard limits. Because sideboards are intended to protect traditional fisheries in other sectors, allowing one sector to exceed its new sideboards by delaying this rule's effectiveness would effectively reduce the available catch for sectors that the sideboard limits are meant to protect. Moreover, the new TACs and sideboard limits protect the fisheries from being overfished. Thus, the delay is contrary to the public interest in protecting traditional fisheries and fish stocks.

If the final harvest specifications are not effective by March 15, 2019, which is the start of the 2019 Pacific halibut season as specified by the IPHC, the hook-and-line sablefish fishery will not begin concurrently with the Pacific halibut IFQ season. Delayed effectiveness of this action would result in confusion for sablefish harvesters and economic harm from unnecessary discard of sablefish that are caught along with Pacific halibut, as both hook-and-line sablefish and Pacific halibut are managed under the same IFQ program. Immediate effectiveness of the final 2019 and 2020 harvest specifications will allow the sablefish IFQ fishery to begin concurrently with the Pacific halibut IFQ season.

Finally, immediate effectiveness also would provide the fishing industry the earliest possible opportunity to plan and conduct its fishing operations with respect to new information about TAC limits. Therefore, NMFS finds good cause to waive the 30-day delay in the date of effectiveness under 5 U.S.C. 553(d)(3).

Small Entity Compliance Guide

This final rule is a plain language guide to assist small entities in complying with this final rule as required by the Small Business Regulatory Enforcement Fairness Act of 1996. This final rule's primary purpose is to announce the final 2019 and 2020 harvest specifications and prohibited species bycatch allowances for the groundfish fisheries of the BSAI. This action is necessary to establish harvest limits and associated management measures for groundfish during the 2019 and 2020 fishing years and to accomplish the goals and objectives of the FMP. This action directly affects all fishermen who participate in the BSAI fisheries. The specific amounts of OFL, ABC, TAC, and PSC amounts are provided in tables to assist the reader. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: March 7, 2019.
Samuel D. Rauch, III,
Deputy Assistant Administrator for Regulatory Programs, National Marine Fisheries Service.

[FR Doc. 2019-04539 Filed 3-12-19; 8:45 am]

BILLING CODE 3510-22-P